DEPARTMENT OF STATE

[Public Notice 6681]

Office of Protocol; Gifts to Federal Employees From Foreign Government Sources Reported to Employing Agencies in Calendar Year 2008

The Department of State submits the following comprehensive listing of the statements which, as required by law, Federal employees filed with their employing agencies during calendar year 2008 concerning gifts received from foreign government sources. The compilation includes reports of both tangible gifts and gifts of travel or travel expenses of more than minimal value, as defined by statute. Also, included are gifts received in previous years including four gifts in 2003, three gifts in 2006, twenty-nine gifts in 2007. These latter gifts and expenses are being reported in 2008 as the Office of Protocol, Department of State, did not receive the relevant information to include them in earlier reports.

Publication of this listing in the Federal Register is required by Section 7342(f) of Title 5, United States Code, as added by Section 515(a)(1) of the Foreign Relations Authorization Act, Fiscal Year 1978 (Pub. L. 95-105, August 17, 1977, 91 Stat. 865).

Dated: May 19, 2009.
Patrick F. Kennedy,
Under Secretary for Management, Department of State.

AGENCY: Executive Office of the President
[Report of Tangible Gifts]
Name and title of person accepting the gift on behalf of the U.S. Government | Gift, date of acceptance on behalf of the U.S. Government, estimated value, and current disposition or location | Identity of foreign donor and government | Circumstances justifying acceptance
President | Traditional brown farwa (overcoat), a silver and gold dagger with belt and case, a silver and gold sabre with diamonds and rubies on the hand guard (includes belt and case), and an inscribed book titled “Back to Earth: Adobe Building in Saudi Arabia,” by William Facey. Rec'd—1/15/2008. Est. Value—$4,589.00. Location—Archives Foreign | His Royal Highness Sultan Bin Salman bin Abdulaziz al Saud, Secretary General, Supreme Commission for Tourism, The Kingdom of Saudi Arabia | Non-acceptance would cause embarrassment to donor and U.S. Government.
President | Silver and gold replica of the palace on slab of malachite, a navy suede robe with gold rope trim and mink lining, and the King Abd al-Aziz Medal of Honor gold necklace. Rec'd—1/15/2008. Est. Value—$32,000.00. Location—Archives Foreign | Abdullah bin Abd al-Aziz Al Saud, Custodian of the Two Holy Mosques, King of the Kingdom of Saudi Arabia | Non-acceptance would cause embarrassment to donor and U.S. Government.
President | A silver and gold replica of a desert scene in Saudi Arabia including palm trees, a camel, a tent, and people on a granite slab. Rec'd—11/13/2008. Est. Value—$2,000.00. Location—Archives Foreign | Abdullah bin Abd al-Aziz Al Saud, Custodian of the Two Holy Mosques, King of the Kingdom of Saudi Arabia | Non-acceptance would cause embarrassment to donor and U.S. Government.
President | Black Mercedes mountain bike with extra parts and a Philips digital photo frame with an SD card holding photos from the President's trip to Germany. Rec'd—6/10/2008. Est. Value—$4,687.00. Location—Archives Foreign | Her Excellency Angela Merkel, Chancellor of the Federal Republic of Germany | Non-acceptance would cause embarrassment to donor and U.S. Government.
President | A 24″ gold chain Collar of State with accompanying certificate, a black sash with multicolored details and embroidered “Pres. Bush” and “Akwabaa,” and a green sash with the Grand Cordon in the Most Venerable Order of the Knighthood of the Pioneers gold medal and 4″ silver brooch replica of the Grand Cordon in the Most Venerable Order of the Pioneers medal with accompanying certificate. Rec'd—2/19/2008. Est. Value—$885.00. Location—Archives Foreign | Her Excellency Ellen Johnson Sirleaf, President of the Republic of Liberia | Non-acceptance would cause embarrassment to donor and U.S. Government.
President | 22″ × 31 1/2″ framed rug portrait of two roan horses. Rec'd—1/15/2008. Est. Value—$400.00. Location—Archives Foreign | His Eminence Abd al-Aziz al-Hakim, Chairman, Islamic Supreme Council of Iraq | Non-acceptance would cause embarrassment to donor and U.S. Government.
President | Tan leather saddle with gold thread embroidery; includes horse blanket, stirrups, reins, and bridle. Rec'd—9/24/2008. Est. Value—$1,400.00. Location—Archives Foreign | His Excellency Abdelaziz Bouteflika, President of the People's Democratic Republic of Algeria | Non-acceptance would cause embarrassment to donor and U.S. Government.
President | Silver bowl with a crescent moon and star around the rim. Rec'd—1/7/2008. Est. Value—$711.00. Location—Archives Foreign | His Excellency Abdullah Gul, President of the Republic of Turkey | Non-acceptance would cause embarrassment to donor and U.S. Government.
President | Sterling silver replica of Machu Picchu ruins in Peru held on a wooden base with “To H.E. George W. Bush, From: H.E. Alan Garcia, Asia Pacific Economic Forum Lima—Peru 2008” inscribed on silver plaque and a book titled “Peru Vision” by His Excellency Alan Garcia Perez and Carlos Espa. Rec'd—11/23/2008. Est. Value—$680.00. Location—Archives Foreign | His Excellency Alan Garcia Perez, President of the Republic of Peru | Non-acceptance would cause embarrassment to donor and U.S. Government.
President | Tan Vicuna scarf with fringe held in an engraved wood box. Rec'd—12/14/2007 Est. Value—$972.00. Location—Archives Foreign | His Excellency Alan Garcia Perez, President of the Republic of Peru | Non-acceptance would cause embarrassment to donor and U.S. Government.
President | Off-white and brown Colombian sombrero and a 49 piece white china set painted with blue flowers. Rec'd—9/20/2008. Est. Value—$852.00. Location—Archives Foreign | His Excellency Alvaro Uribe Velez, President of the Republic of Colombia | Non-acceptance would cause embarrassment to donor and U.S. Government.
President | Mother of pearl picture frame, two leather vases, three wind chimes, and a candle holder. Rec'd—12/26/2007. Est. Value—$425.00. Location—Archives Foreign | Their Majesties King Abdullah II bin Al Hussein and Queen Rania Al Abdullah, The Hashemite Kingdom of Jordan | Non-acceptance would cause embarrassment to donor and U.S. Government.
President | A pair of leather boots with hand stitched leather appliqués, a burlap and multicolored denim saddle pad, a painted leather and fabric saddle with copper stirrups, personalized “George W. Bush,” “USA,” and “Mali” with brass tacks, and a leather halter with brass embellishments and multicolored lead rope, all in traditional Malinese style. Rec'd—2/12/2008. Est. Value—$918.00. Location—Archives Foreign | His Excellency Amadou Toumani Touré, President of the Republic of Mali | Non-acceptance would cause embarrassment to donor and U.S. Government.
President | Bang & Olufsen BeoLab 4000 music system with speakers and remote control. Rec'd—2/29/2008. Est. Value—$5,195.00. Location—Archives Foreign | His Excellency Anders Fogh Rasmussen, Prime Minister of Denmark | Non-acceptance would cause embarrassment to donor and U.S. Government.
President | 10″ × 10″ ornate Waterford crystal footed bowl with scalloped border etched, “Presented to George W. Bush, President of the United States of America on the Occasion of St. Patrick's Day 2008 by the Taoiseach, Bertie Ahern, on Behalf of the People of Ireland,” live Shamrocks, and an 18″ figurine carved in 56,000-year-old bog wood. Rec'd—3/17/2008. Est. Value—$768.00. Location—Archives Foreign | His Excellency Bertie Ahern, T.D., Prime Minister of Ireland | Non-acceptance would cause embarrassment to donor and U.S. Government.
President | NATO Summit Bucharest commemorative items including a briefcase, gold coin, “Wings of Freedom” sketch, and Mont Blanc pen and ink set, USB drives, card case, DVDs, and leather portfolio, three books titled ““Who's Afraid of Glass?” by Ioan Nemtoi, four books titled “Saints on Glass,” “Traditions: Romania Through Stamps,” “Patrimony Romanian Costume,” and “Bucuresti,” by George Avanu, 2 audio CDs, an 11″ × 14″ hand painted icon of St. George, a large yellow blown glass bowl, and an 8″ × 10″ framed oil painting of four people. Rec'd—4/2/2008. Est. Value—$3,819.00. Location—Archives Foreign | His Excellency Calin Popescu-Tariceanu, Prime Minister of Romania | Non-acceptance would cause embarrassment to donor and U.S. Government.
President | Bottle of 1977 Chardonnay. Rec'd—4/2/2008. Est. Value—$49.00. Location—Handled pursuant to Secret Service policy | His Excellency Calin Popescu-Tariceanu, Prime Minister of Romania | Non-acceptance would cause embarrassment to donor and U.S. Government.
President | Traditional blue two-part Benin robe and a carved wood pot supported by three hands attached to a white embroidered cloth and held in a frame. Rec'd—2/16/2008. Est. Value—$525.00. Location—Archives Foreign | His Excellency Dr. Boni Yayi, President of the Republic of Benin | Non-acceptance would cause embarrassment to donor and U.S. Government.
President | 80″ × 113″ silk Afghani rug. Rec'd—5/17/2008. Est. Value—$4,000.00. Location—Archives Foreign | His Excellency Dr. Hamid Karzai, President of the Islamic Republic of Afghanistan | Non-acceptance would cause embarrassment to donor and U.S. Government.
President | 19″ × 39″ oval lapis tabletop and two 19 1/2″ round lapis tabletops. Rec'd—9/26/2008. Est. Value—$19,400.00. Location—Archives Foreign | His Excellency Dr. Hamid Karzai, President of the Islamic Republic of Afghanistan | Non-acceptance would cause embarrassment to donor and U.S. Government.
President | Limited edition silver bowl with enameled yellow flowers and green leaves and two inscribed books titled, “A History of Ancient and Early Medieval India: From the Stone Age to the 12th Century,” by Upinder Singh and “Ghandian Way: Peace, Non-violence and Empowerment.” Rec'd—9/24/2008. Est. Value—$813.00. Location—Archives Foreign | His Excellency Dr. Manmohan Singh, Prime Minister of the Republic of India | Non-acceptance would cause embarrassment to donor and U.S. Government.
President | A framed 28″ × 20″ photo of President Bush and Prime Minister Olmert, a hydration system cycling backpack, two blue Nalini cycling bib shorts with “G.W. Bush” and an Israeli flag printed on the leg, a blue short sleeve Nalini cycling jersey with “G.W. Bush” printed on the back, a blue long sleeve Nalini cycling jersey with “G.W. Bush” printed on the back, a 256MB memory card, a high quality Handy screen protector, and an HP iPAQ Travel Companion with accompanying charger and case. Rec'd—1/9/2008. Est. Value—$2,050.00. Location—Archives Foreign | His Excellency Ehud Olmert, Prime Minister of Israel | Non-acceptance would cause embarrassment to donor and U.S. Government.
President | Athletic Equipment: MTB Hard Tail Special Edition mountain bike made by Segal bikes; President Bush's name and the Israeli flag painted on the frame and a framed 5′ × 2′ transfer of a photo onto a canvas of Masada landscape at night. Rec'd—5/15/2008. Est. Value—$3,450.00. Location—Archives Foreign | His Excellency Ehud Olmert, Prime Minister of Israel | Non-acceptance would cause embarrassment to donor and U.S. Government.
President | Mounted crystal formation. Rec'd—7/21/2008. Est. Value—$600.00. Location—Archives Foreign | His Excellency Fatmir Sejdiu, President of the Republic of Kosovo | Non-acceptance would cause embarrassment to donor and U.S. Government.
President | Two brown leather bookends with silver plated Agave plant on the sides. Rec'd—4/21/2008. Est. Value—$495.00. Location—Archives Foreign | His Excellency Felipe de Jesus Calderon Hinojosa, President of the United Mexican States | Non-acceptance would cause embarrassment to donor and U.S. Government.
President | 12″ × 12″ square opaque yellow plate held on a silver stand. Rec'd—11/14/2008. Est. Value—$400.00. Location—Archives Foreign | His Excellency Felipe de Jesus Calderon Hinojosa, President of the United Mexican States | Non-acceptance would cause embarrassment to donor and U.S. Government.
President | Sterling silver plated stag horn tea cup engraved with the seal of Paraguay, a sterling silver spoon, and a white linen embroidered shirt designed by Marcos Ismachowiez. Rec'd—10/27/2008. Est. Value—$362.00. Location—Archives Foreign | His Excellency Fernando Lugo, President of the Republic of Paraguay | Non-acceptance would cause embarrassment to donor and U.S. Government.
President | Creative Zen MP3 Player and an OSIM uSqueez Calf and Foot Massager. Rec'd—4/9/2008. Est. Value—$579.00. Location—Archives Foreign | His Excellency Goh Chok Tong, Senior Minister, Office of the Prime Minister of the Republic of Singapore | Non-acceptance would cause embarrassment to donor and U.S. Government.
President | Taxidermied lion and leopard, a zebra skin, and an 8' tall ornately carved statue. Rec'd—2/17/2008. Est. Value—$18,200.00. Location—Archives Foreign | His Excellency Jakaya Kikwete, President of the United Republic of Tanzania | Non-acceptance would cause embarrassment to donor and U.S. Government.
President | Two shadow boxes displaying with carvings of native Tanzanians, an 11″ × 33″ framed painting of zebras, and a 33” wood table with carvings of African animals including elephants, giraffes, and lions. Rec'd—8/28/2008. Est. Value—$625.00. Location—Archives Foreign | His Excellency Jakaya Kikwete, President of the United Republic of Tanzania | Non-acceptance would cause embarrassment to donor and U.S. Government.
President | Pair of black Zandstra rollerblades, belreflector, Skeelers wrist guards, knee pads, and elbow pads, and white wood clogs with “Jan Peter Balkenende,” “In friendship,” and windmills painted in blue. Rec'd—6/5/2008. Est. Value—$762.00. Location—Archives Foreign | His Excellency Jan Peter Balkenende, Prime Minister of the Kingdom of the Netherlands | Non-acceptance would cause embarrassment to donor and U.S. Government.
President | Cult full carbon Black Gold XTR mountain bike, navy tie with white designs, and a rectangular crystal bowl with star design. Rec'd—6/9/2008. Est. Value—$7,031.00. Location—Archives Foreign | His Excellency Janez Jansa, Prime Minister of the Republic of Slovenia | Non-acceptance would cause embarrassment to donor and U.S. Government.
President | Gold cufflinks and matching gold chain necklace with stone and a large piece of red, black, yellow, and green traditional Kente cloth. Rec'd—2/19/2008. Est. Value—$400.00. Location—Archives Foreign | His Excellency John Agyekum Kufuor, President of the Republic of Ghana | Non-acceptance would cause embarrassment to donor and U.S. Government.
President | Black Mont Blanc fountain pen. Rec'd—10/18/2008. Est. Value—$394.00. Location—Archives Foreign | His Excellency José Manuel Duaro Barroso, President of the Commission of the European Communities | Non-acceptance would cause embarrassment to donor and U.S. Government.
President | Framed archery set. Rec'd—4/16/2008. Est. Value—$400.00. Location—Archives Foreign | His Excellency Lee Myung-bak, President of the Republic of Korea | Non-acceptance would cause embarrassment to donor and U.S. Government.
President | Various personalized Elord casual clothes, tennis shoes, and a baseball cap. Rec'd—8/6/2008. Est. Value—$936.00. Location—Archives Foreign | His Excellency Lee Myung-bak, President of the Republic of Korea | Non-acceptance would cause embarrassment to donor and U.S. Government.
President | Ten Fuente OpusX cigars. Rec'd—5/6/2008. Est. Value—$330.00. Location—Handled pursuant to Secret Service policy | His Excellency Martin Torrijos Espino, President of the Republic of Panama | Non-acceptance would cause embarrassment to donor and U.S. Government.
President | Red lacquered wood humidor made by Griffin's with a sterling silver plate engraved “43” affixed to lid and a book titled “Panama Canal.” Rec'd—5/6/2008. Est. Value—$742.00. Location—Archives Foreign | His Excellency Martin Torrijos Espino, President of the Republic of Panama | Non-acceptance would cause embarrassment to donor and U.S. Government.
President | Crystal decanter etched with the Czech Republic seal and five crystal glasses etched “G.W.B.,” a signed hardcover book titled “Prague, Prag, Praha,” by Miroslav Krob & Jr., a Ceska Zbrojovka CS550 shotgun, and an inscribed wood gun rack. Rec'd—2/28/2008. Est. Value—$1,885.00. Location—Archives Foreign | His Excellency Mirek Topolanek, Prime Minister of the Czech Republic | Non-acceptance would cause embarrassment to donor and U.S. Government.
President | Brown leather Hermes saddle. Rec'd—6/13/2008. Est. Value—$6,200.00. Location—Archives Foreign | His Excellency Nicolas Sarkozy, President of the French Republic | Non-acceptance would cause embarrassment to donor and U.S. Government.
President | Lalique crystal horse bookends. Rec'd—7/8/2008. Est. Value—$3,000.00. Location—Archives Foreign | His Excellency Nicolas Sarkozy, President of the French Republic | Non-acceptance would cause embarrassment to donor and U.S. Government.
President | Black lacquer humidor with a silver-plated symbol of France on top and “President de la Republique Francaise” engraved on the inside and a sterling silver Waterman fountain pen. Rec'd—10/18/2008. Est. Value—$3,000.00. Location—Archives Foreign | His Excellency Nicolas Sarkozy, President of the French Republic | Non-acceptance would cause embarrassment to donor and U.S. Government.
President | Framed gold image of the Élysée Palace in Paris, France with “Nicolas Sarkozy President de la Republique Francaise” written on the bottom and a gold and crystal “LÉpee” clock. Rec'd—11/17/2008. Est. Value—$1,559.00. Location—Archives Foreign | His Excellency Nicolas Sarkozy, President of the French Republic | Non-acceptance would cause embarrassment to donor and U.S. Government.
President | Silver tea set including teapot, cream, and sugar containers. Rec'd—3/24/2008. Est. Value—$650.00. Location—Archives Foreign | His Excellency Pranab Kumar Mukherjee, Minister of External Affairs of the Republic of India | Non-acceptance would cause embarrassment to donor and U.S. Government.
President | Silver filigree bowl. Rec'd—4/25/2008. Est. Value—$350.00. Location—Archives Foreign | His Excellency Sali Berisha, Prime Minister of the Republic of Albania | Non-acceptance would cause embarrassment to donor and U.S. Government.
President | Four books titled “Glorious Celebrations of the Reign: The Celebrations of the 60th Anniversary of His Majesty the King's Accession to the Throne” (2), “The Royal Kingdom of Thailand: Fifty Years of a Golden Reign,” “Arts of the Kingdom,” and “Bangkok Then and Now,” by Steven Van Beek, and a wood jewelry box with the seal of The Royal Thai Government in gold and lined with green velvet. Rec'd—8/6/2008. Est. Value—$1,125.00. Location—Archives Foreign | His Excellency Samak Sundaravej, Prime Minister of Kingdom of Thailand | Non-acceptance would cause embarrassment to donor and U.S. Government.
President | Six wooden replicas of ancient Kuwaiti ships held in a wood box with 4 engraved gold plates. Rec'd—3/4/2008. Est. Value—$414.00. Location—Archives Foreign | His Excellency Sheikh Mesh'al Al-Ahmad Al-Jaber Al-Sabah, Deputy Chief, Kuwaiti National Guard, Kuwait | Non-acceptance would cause embarrassment to donor and U.S. Government.
President | Silver and gold falcon sculpture and a gold model of the Kuwait City landscape in a crystal cube. Rec'd—9/18/2008. Est. Value—$15,237.00. Location—Archives Foreign | His Excellency Sheikh Nasser Mohammad Al Sabah, Prime Minister of the State of Kuwait | Non-acceptance would cause embarrassment to donor and U.S. Government.
President | Bronze statue on a marble pedestal representing a young girl with butterfly wings symbolizing the Spring offering the laurel to the Winner and twelve E. Marinella ties. Rec'd—6/13/2008. Est. Value—$5,120.00. Location—Archives Foreign | His Excellency Silvio Berlusconi, President of the Council of Ministers of the Italian Republic | Non-acceptance would cause embarrassment to donor and U.S. Government.
President | Twelve E. Marinella ties. Rec'd—7/8/2008. Est. Value—$1,620.00. Location—Archives Foreign | His Excellency Silvio Berlusconi, President of the Council of Ministers of the Italian Republic | Non-acceptance would cause embarrassment to donor and U.S. Government.
President | 15″ white ceramic “Liberty” vase with three women dancing, numbered 200 of 500, and twelve E. Marinella ties. Rec'd—10/13/2008. Est. Value—$2,460.00. Location—Archives Foreign | His Excellency Silvio Berlusconi, President of the Council of Ministers of the Italian Republic | Non-acceptance would cause embarrassment to donor and U.S. Government.
President | Various Christmas decorations including ornaments, a papier mache Santa Claus, 14″ decorative crystal tree, and napkins. Rec'd—12/17/2007. Est. Value—$742.00. Location—Archives Foreign | His Excellency Saqr Ghobash Saeed Ghobash, Ambassador of the United Arab Emirates | Non-acceptance would cause embarrassment to donor and U.S. Government.
President | Two Royal Crown Derby plates in the “Gold Aves” pattern. Rec'd—12/17/2007. Est. Value—$300.00. Location—Transferred to GSA | His Excellency Saqr Ghobash Saeed Ghobash, Ambassador of the United Arab Emirates | Non-acceptance would cause embarrassment to donor and U.S. Government.
President | Two Royal Crown Derby plates in the “Gold Aves” pattern. Rec'd—12/17/2007. Est. Value—$300.00. Location—President retained | His Excellency Saqr Ghobash Saeed Ghobash, Ambassador of the United Arab Emirates | Non-acceptance would cause embarrassment to donor and U.S. Government.
President | Bottle of Kutjevo wine. Rec'd—4/4/2008. Est. Value—$50.00. Location—Handled pursuant to Secret Service policy | His Excellency Stjepan Mesic, President of the Republic of Croatia | Non-acceptance would cause embarrassment to donor and U.S. Government.
President | Leather photo album with photos of President Bush's trip to Croatia, a wood model of an antique Croatian ship called a “Bracera,” and an XD-9 semi-automatic pistol and XD semi-automatic pistol. Rec'd—4/4/2008. Est. Value—$1,763.00. Location—Archives Foreign | His Excellency Stjepan Mesic, President of the Republic of Croatia | Non-acceptance would cause embarrassment to donor and U.S. Government.
President | Household Item: Large 3-tier wooden frame with handcarved designs. Rec'd—6/5/2008. Est. Value—$2,000.00. Location—Archives Foreign | His Excellency Syed Yousaf Raza Gillani, Prime Minister of the Islamic Republic of Pakistan | Non-acceptance would cause embarrassment to donor and U.S. Government.
President | Gold-plated SMG PK Caliber 9mm gun and an inscribed book titled “Reconciliation: Islam, Democracy, and the West” by Benazir Bhutto. Rec'd—7/28/2008. Est. Value—$778.00. Location—Archives Foreign | His Excellency Syed Yousaf Raza Gillani, Prime Minister of the Islamic Republic of Pakistan | Non-acceptance would cause embarrassment to donor and U.S. Government.
President | Personalized letterman jacket images of Barney, Miss Beazley, and India on the back, two G8 commemorative coins, and an inscribed book by Sakie Yokota. Rec'd—7/8/2008. Est. Value—$404.00. Location—Archives Foreign | His Excellency Yasuo Fukuda, Prime Minister of Japan | Non-acceptance would cause embarrassment to donor and U.S. Government.
President | “The Order of Zayed” gold necklace with emeralds, diamonds, and rubies with gold medallion and certificate and a multicolored vase with the coat of arms of the United Arab Emirates. Rec'd—1/13/2008. Est. Value—$86,500.00. Location—Archives Foreign | His Highness Sheikh Khalifa bin Zayed Al Nahyan, President of the United Arab Emirates | Non-acceptance would cause embarrassment to donor and U.S. Government.
President | 5′ × 6′ framed abstract painting of the letter “W” by Abdul Kader El Rayes. Rec'd—8/8/2008. Est. Value—$4,000.00. Location—Archives Foreign | His Highness Sheikh Mohammed bin Rashid al-Maktoum, Vice President and Prime Minister of the United Arab Emirates | Non-acceptance would cause embarrassment to donor and U.S. Government.
President | Silver William & Son fountain pen and a book titled “Mosaic: A journey through the multi-faceted world of Bahrain's Arts and Crafts,” by Dr. Ali Hasan Follad. Rec'd—9/8/2008. Est. Value—$650.00. Location—Archives Foreign | His Highness Sheikh Salman bin Hamad bin Isa Al-Khalifa, Crown Prince of the Kingdom of Bahrain and Head of the Bahrain Defense Force | Non-acceptance would cause embarrassment to donor and U.S. Government.
President | Framed 13½″ × 23½″ “St. Petersburg Square” mosaic. Rec'd—4/15/2008. Est. Value—$2,500.00. Location—Archives Foreign | His Holiness Pope Benedict XVI | Non-acceptance would cause embarrassment to donor and U.S. Government.
President | Bouquet of flowers and thirty-eight boxes of assorted Godiva chocolates. Rec'd—7/8/2008. Est. Value—$1,170.00. Location—Handled pursuant to Secret Service policy | His Majesty Mohammed VI, King of Morocco | Non-acceptance would cause embarrassment to donor and U.S. Government.
President | Decoration of the Order of Sheikh Isa bin Salman Al Khalifa with certificate and a gold date palm tree on stand with pearls. Rec'd—1/12/2008. Est. Value—$26,450.00. Location—Archives Foreign | His Majesty Shaikh Hamad Bin Isa Bin Salman Al-Khalifa, King of the Kingdom of Bahrain | Non-acceptance would cause embarrassment to donor and U.S. Government.
President | Two blue, tan, and off-white vases with painted images of horses and birds and a book titled “The Historical Photos of the American Hospital & Documents Related to the American Hospital.” Rec'd—3/24/2008. Est. Value—$3,694.00. Location—Archives Foreign | His Majesty Shaikh Hamad Bin Isa Bin Salman Al-Khalifa, King of the Kingdom of Bahrain | Non-acceptance would cause embarrassment to donor and U.S. Government.
President | A limited edition (2/100) 10″ Faberge elephant, a limited edition (42/500) book titled “Luc Leestemaker” by Luc Leestemaker with framed 5″ × 6″ original painting by the artist, and a 4″ gold and brass filigree and enameled jeweled Faberge egg with small egg pendant necklace. Rec'd—1/3/2008. Est. Value—$4,750.00. Location—Archives Foreign | His Majesty Sultan Haji Hassanal Bolkiah Mu'izzaddin Waddaulah, Sultan and Yang Di-Pertuan of Brunei Darussalam | Non-acceptance would cause embarrassment to donor and U.S. Government.
President | Various chocolates, cookies, corn relish, and spirited cherries. Rec'd—1/3/2008 Est. Value—$60.00. Location—Handled pursuant to Secret Service policy | His Majesty Sultan Haji Hassanal Bolkiah Mu'izzaddin Waddaulah, Sultan and Yang Di-Pertuan of Brunei Darussalam | Non-acceptance would cause embarrassment to donor and U.S. Government.
President | Framed 31″ × 46½″ painting of the First Family. Rec'd—4/9/2008. Est. Value—$3,500.00. Location—Archives Foreign | Mr. Behgjet Pacolli, Chairman, New Kosovo Alliance | Non-acceptance would cause embarrassment to donor and U.S. Government.
President | 30″ mother of pearl vase. Rec'd—1/8/2008. Est. Value—$500.00. Location—Archives Foreign | Mr. Mahmoud Abbas, President of the Palestinian Authority | Non-acceptance would cause embarrassment to donor and U.S. Government.
President | Framed 28½″ × 30½″ painting of a woman playing the flute. Rec'd—4/23/2008. Est. Value—$350.00. Location—Archives Foreign | Mr. Mahmoud Abbas, President of the Palestinian Authority | Non-acceptance would cause embarrassment to donor and U.S. Government.
President | 3″ red painted sake cup with hand painted design and personalized with the President's initials. Rec'd—7/8/2008 Est. Value—$1,000.00. Location—Archives Foreign | Mrs. Kiyoko Fukuda, Office of the Prime Minister and Chief Cabinet Secretary, Office of the Prime Minister of Japan | Non-acceptance would cause embarrassment to donor and U.S. Government.
President | Signed leather bound book titled “Australia: An Artist's Journey Through The Landscape” by Pamela Griffith. Rec'd—3/28/2008. Est. Value—$1,200.00. Location—Archives Foreign | The Honorable Kevin Rudd, M.P., Prime Minister of Australia | Non-acceptance would cause embarrassment to donor and U.S. Government.
President | Small gold plaque with the Kurdistan seal, scabbard with hand-carved wood handle and sheath, and a traditional Kurdish tan suit, including a zip-up jacket, drawstring slacks, a sheer patterned scarf, two red and white headscarves, and a small cap, all held in a black Tumi garment bag. Rec'd—10/28/2008. Est. Value—$2,209.00. Location—Archives Foreign | The Honorable Masoud Barzani, President of the Kurdistan Regional Government | Non-acceptance would cause embarrassment to donor and U.S. Government.
President | A brown tie with multicolored stripes, a red tie with floral designs, and a black and blue dotted tie. Rec'd—4/16/2008. Est. Value—$390.00. Location—Archives Foreign | The Right Honorable James Gordon Brown, M.P., Prime Minister | Non-acceptance would cause embarrassment to donor and U.S. Government.
President | Box of Rococo chocolates. Rec'd—4/16/2008. Est. Value—$94.00. Location—Handled pursuant to Secret Service policy | The Right Honorable James Gordon Brown, M.P., Prime Minister | Non-acceptance would cause embarrassment to donor and U.S. Government.
First Lady | White and blue Meissen tea set with two tea cups, two saucers, and four plates. Rec'd—6/10/2008. Est. Value—$772.00. Location—Archives Foreign | Her Excellency Angela Merkel, Chancellor of the Federal Republic of Germany | Non-acceptance would cause embarrassment to donor and U.S. Government.
First Lady | Two 5″ tall sterling silver and colored maple wood candle holders by Lev Shneiderman and a 3″ hammered gold dove pin. Rec'd—5/15/2008. Est. Value—$205.00. Location—Archives Foreign | Her Excellency Dali Itzik, Speaker of the Knesset of Israel | Non-acceptance would cause embarrassment to donor and U.S. Government.
First Lady | Ahava Bath + Beauty set in blue AHAVA travel case. Rec'd—5/15/2008. Est. Value—$150.00. Location—Handled pursuant to Secret Service policy | Her Excellency Dali Itzik, Speaker of the Knesset of Israel | Non-acceptance would cause embarrassment to donor and U.S. Government.
First Lady | Gold brooch with Liberian seal, black sash with multicolored details and embroidered with “Mrs. Bush” and “Akwabaa,” a green sash with the Grand Cordon in the Most Venerable Order of the Knighthood of the Pioneers gold-tone medal with 4″ silver brooch replica of the Grand Cordon in the Most Venerable Order of the Pioneers medal, and an award certificate signed by Her Excellency Ellen Johnson Sirleaf. Rec'd—2/19/2008. Est. Value—$1,085.00. Location—Archives Foreign | Her Excellency Ellen Johnson Sirleaf, President of the Republic of Liberia | Non-acceptance would cause embarrassment to donor and U.S. Government.
First Lady | 3″ 18 carat gold bamboo broach with a golden Southsea pearl and a genuine stingray leather jewelry box. Rec'd—6/24/2008. Est. Value—$960.00. Location—Archives Foreign | Her Excellency Gloria Macapagal-Arroyo, President of the Republic of the Philippines | Non-acceptance would cause embarrassment to donor and U.S. Government.
First Lady | Two 8″ × 10″ framed photos of divers, a CD, two 4″ × 6″ framed photos of Mrs. Bush and Her Excellency Nouria Al-Subaih, and a small sterling silver bird figurine held in a frame. Rec'd—2/25/2008. Est. Value—$336.00. Location—Archives Foreign | Her Excellency Nouria Al-Subaih, Minister of Education and Higher Education, Kuwait | Non-acceptance would cause embarrassment to donor and U.S. Government.
First Lady | Seven large silk fabrics held in an ivory silk case. Rec'd—5/16/2008. Est. Value—$9,819.00. Location—Archives Foreign | Her Royal Highness Hessa bint Trad Al-Shaalan, Princess, Riyadh | Non-acceptance would cause embarrassment to donor and U.S. Government.
First Lady | 5″ × 7″ antique silver jeweled box with traditional design and twenty-one 3″ silver symbolic Tuareg crosses held in a traditional decorative wooden frame. Rec'd—9/24/2008. Est. Value—$789.00. Location—Archives Foreign | His Excellency Abdelaziz Bouteflika, President of the People's Democratic Republic of Algeria | Non-acceptance would cause embarrassment to donor and U.S. Government.
First Lady | 17″ × 51″ raw silk embroidered table runner. Rec'd—1/7/2008. Est. Value—$445.00. Location—Archives Foreign | His Excellency Abdullah Gul, President of the Republic of Turkey | Non-acceptance would cause embarrassment to donor and U.S. Government.
First Lady | Large kora (traditional string instrument from Mali). Rec'd—2/12/2008. Est. Value—$400.00. Location—Archives Foreign | His Excellency Amadou Toumani Touré, President of the Republic of Mali | Non-acceptance would cause embarrassment to donor and U.S. Government.
First Lady | Burgundy patent leather jewelry box and matching purse. Rec'd—10/30/2008. Est. Value—$563.00. Location—Archives Foreign | His Excellency Asif Ali Zardari, President of the Islamic Republic of Pakistan | Non-acceptance would cause embarrassment to donor and U.S. Government.
First Lady | 72″ × 144″ double damask satin linen tablecloth by Thomas Furguson. Rec'd—3/17/2008. Est. Value—$429.00. Location—Archives Foreign | His Excellency Bertie Ahern, T.D., Prime Minister of Ireland | Non-acceptance would cause embarrassment to donor and U.S. Government.
First Lady | 12 white linen napkins with multicolored animals with matching 48″ × 60″ white table linen and native dress with jems and embroidered details. Rec'd—2/16/2008. Est. Value—$600.00. Location—Archives Foreign | His Excellency Boni Yayi and Mrs. Chantal Jean De Souza Yayi, President of the Republic of Benin | Non-acceptance would cause embarrassment to donor and U.S. Government.
First Lady | 11″ blue lapis vase with floral inlay. Rec'd—4/3/2008. Est. Value—$550.00. Location—Archives Foreign | His Excellency Dr. Hamid Karzai, President of the Islamic Republic of Afghanistan | Non-acceptance would cause embarrassment to donor and U.S. Government.
First Lady | 4″ silver Hoopoe bird with Indian enameling known as Meenakari designed by Blue Bird and four “Sound Scapes: Music of the Deserts, Valleys, Rivers and Mountains” CD set. Rec'd—9/25/2008. Est. Value—$650.00. Location—Archives Foreign | His Excellency Dr. Manmohan Singh, Prime Minister of the Republic of India | Non-acceptance would cause embarrassment to donor and U.S. Government.
First Lady | 14″ ornately painted gourd with traditional design and removable lid. Rec'd—3/13/2008. Est. Value—$350.00. Location—Archives Foreign | His Excellency Felipe de Jesus Calderon Hinojosa, President of the United Mexican States | Non-acceptance would cause embarrassment to donor and U.S. Government.
First Lady | Gold necklace, earrings, and bracelet set featuring symbols of Ghana. Rec'd—2/21/2008. Est. Value—$2,000.00. Location—Archives Foreign | His Excellency John Agyekum Kufuor, President of the Republic of Ghana | Non-acceptance would cause embarrassment to donor and U.S. Government.
First Lady | White china tea set with blue accents by Young Sook Park, an assortment of personalized Elord casual wear, a pink silk scarf, tennis shoes, and a personalized baseball cap. Rec'd—4/16/2008. Est. Value—$1,382.00. Location—Archives Foreign | His Excellency Lee Myung-bak, President of the Republic of Korea, Seoul | Non-acceptance would cause embarrassment to donor and U.S. Government.
First Lady | White porcelain rose held on a wooden stand. Rec'd—10/18/2008. Est. Value—$450.00. Location—Archives Foreign | His Excellency Nicolas Sarkozy, President of the French Republic | Non-acceptance would cause embarrassment to donor and U.S. Government.
First Lady | Six E. Marinella silk scarves. Rec'd—6/12/2008. Est. Value—$1,920.00. Location—Archives Foreign | His Excellency Silvio Berlusconi, President of the Council of Ministers of the Italian Republic | Non-acceptance would cause embarrassment to donor and U.S. Government.
First Lady | Three multicolored E. Marinella silk scarves. Rec'd—10/13/2008. Est. Value—$480.00. Location—Archives Foreign | His Excellency Silvio Berlusconi, President of the Council of Ministers of the Italian Republic | Non-acceptance would cause embarrassment to donor and U.S. Government.
First Lady | 20″ × 24″ framed embroidered artwork of a vase with various purple flowers. Rec'd—1/28/2008. Est. Value—$350.00. Location—Archives Foreign | His Excellency Sun Jiazheng, Minister of Culture of the People's Republic of China | Non-acceptance would cause embarrassment to donor and U.S. Government.
First Lady | White sheer scarf with silver details and a traditional Romanian folk costume including a robe, gold silk head scarf, skirt, and a belt. Rec'd—4/1/2008. Est. Value—$766.00. Location—Archives Foreign | His Excellency Traian Basescu and Mrs. Maria Basescu, President and First Lady of Romania | Non-acceptance would cause embarrassment to donor and U.S. Government.
First Lady | Two 15″ hand-painted carved wooden statues in traditional male and female Ukranian attire. Rec'd—9/29/2008. Est. Value—$600.00. Location—Archives Foreign | His Excellency Viktor Andriyovych Yushchenko, President of Ukraine | Non-acceptance would cause embarrassment to donor and U.S. Government.
First Lady | Large silver traditional necklace with bells, embroidered fur-lined traditional wrap, beaded traditional head cover with tassels, yellow traditional beaded robe, and a book titled “Traditional Crafts of Saudi Arabia” by John Topham. Rec'd—1/15/2008. Est. Value—$4,085.00. Location—Archives Foreign | His Royal Highness Sultan Bin Salman bin Abdulaziz Al Saud, Secretary General, Supreme Commission for Tourism, Riyadh | Non-acceptance would cause embarrassment to donor and U.S. Government.
First Lady | Green pashmina wrap with embroidered peach and burgundy floral design. Rec'd—7/28/2008. Est. Value—$387.00. Location—Archives Foreign | Mrs. Begum Fauzia Gillani, Office of the Prime Minister of The Islamic Republic of Pakistan | Non-acceptance would cause embarrassment to donor and U.S. Government.
First Lady | 10″ black quilted silk Chanel handbag with silver chain. Rec'd—6/13/2008. Est. Value—$1,500.00. Location—Archives Foreign | Mrs. Carla Sarkozy, Office of the President of the Republic of France | Non-acceptance would cause embarrassment to donor and U.S. Government.
First Lady | Ornate Turkish silver mirror with lace envelope and two books titled “My Name is Red,” by Orhan Pamuk and Erdag Goknar and “Hagia Sophia: A Vision for Empires.” Rec'd—1/18/2008. Est. Value—$520.00. Location—Archives Foreign | Mrs. Fatma Gulgun Sensoy, Embassy of the Republic of Turkey | Non-acceptance would cause embarrassment to donor and U.S. Government.
First Lady | 17″ × 51″ raw silk embroidered table runner. Rec'd—1/7/2008. Est. Value—$445.00. Location—Archives Foreign | Mrs. Hayrünnisa Gül, Office of Minister of Foreign Affairs of the Republic of Turkey | Non-acceptance would cause embarrassment to donor and U.S. Government.
First Lady | 2″ pink enamel carnation pendant on gold chain by Master Avedis. Rec'd—9/22/2008. Est. Value—$550.00. Location—Archives Foreign | Mrs. Hayrünnisa Gül, Office of Minister of Foreign Affairs of the Republic of Turkey | Non-acceptance would cause embarrassment to donor and U.S. Government.
First Lady | Brown and gold beaded basket and a Rwandan table set including brown and gold beaded placemats, napkin rings, and coasters held in matching beaded container with lid. Rec'd—2/18/2008. Est. Value—$385.00. Location—Archives Foreign | Mrs. Jeannette Kagame, First Lady of Rwanda | Non-acceptance would cause embarrassment to donor and U.S. Government.
First Lady | A book in Japanese about protecting the Eart, nine sketches of various families protecting the environment, a “Kobuskusa” (small decorative cloth), purple silk scarf, small hand painted bamboo bowl, a hand painted red sake cup personalized with Mrs. Bush's initials, hand painted seashells, papier mache masks of President and Mrs. Bush, a framed origami American flag, a woven obi with gold and silver leaf pattern, a small decorative bean bag doll on a clear stand, two small painted stress balls, and a book titled “Gift Wrapping with Textiles: Stylish Ideas from Japan,” by Chizuko Morita. Rec'd—7/8/2008. Est. Value—$4,585.00. Location—Archives Foreign | Mrs. Kiyoko Fukuda, Office of the Prime Minister and Chief Cabinet Secretary, Office of the Prime Minister of Japan | Non-acceptance would cause embarrassment to donor and U.S. Government.
First Lady | White sheer scarf with silver details and a traditional Romanian folk costume including a robe, gold silk head scarf, skirt, and a belt. Rec'd—4/1/2008. Est. Value—$766.00. Location—Archives Foreign | Mrs. Maria Basescu, Office of the President of Romania | Non-acceptance would cause embarrassment to donor and U.S. Government.
First Lady | Local vegetable floral arrangement. Rec'd—11/22/2008. Est. Value—$50.00. Location—Handled pursuant to Secret Service policy | Mrs. Pilar Nores de Garcia, The First Lady of the Republic of Peru, Palacio de Gobierno, Plaza de Arnas, Lima | Non-acceptance would cause embarrassment to donor and U.S. Government.
First Lady | 7″ silver spoon pin with red stone in center and Peruvian designs, colorful traditional Peruvian woven table runner, and a book titled “The Incas: Art and Symbols.” Rec'd—11/22/2008. Est. Value—$312.00. Location—Archives Foreign | Mrs. Pilar Nores de Garcia, The First Lady of the Republic of Peru, Palacio de Gobierno, Plaza de Arnas, Lima | Non-acceptance would cause embarrassment to donor and U.S. Government.
First Lady | 55″ × 55″ beige silk scarf with gold details by Valentin Yudashkin. Rec'd—7/8/2008. Est. Value—$390.00. Location—Archives Foreign | Mrs. Svetlana Medvedeva, Office of the President of the Russian Federation | Non-acceptance would cause embarrassment to donor and U.S. Government.
First Lady | Stainless steel set of 12 knives, forks, and spoons and one serving spatula with traditional Lebanese design on handles by S & S Haddad. Rec'd—9/23/2008. Est. Value—$900.00. Location—Archives Foreign | Mrs. Wafaa Sleiman, Office of the President of The Republic of Lebanon | Non-acceptance would cause embarrassment to donor and U.S. Government.
First Lady | Dark blue silk scarf and a 13 piece white porcelain tea set with brown and gold details handmade by Slovenian artists. Rec'd—6/9/2008. Est. Value—$501.00. Location—Archives Foreign | Ms. Urska Bacovnik, Office of the Prime Minister of the Republic of Slovenia | Non-acceptance would cause embarrassment to donor and U.S. Government.
First Lady | 8″ ornately hand carved traditional wooden elephant with small elephant inside and enamel design. Rec'd—9/22/2008. Est. Value—$700.00. Location—Archives | The Honorable Daggubati Purandeswari, Minister of State for Human Resource Development, Republic of India | Non-acceptance would cause embarrassment to donor and U.S. Government.
First Lady | 36″ × 48″ colorful embroidered cloth and a traditional Kurdish outfit with metallic copper-colored vest and pants with a sheer beaded patterned robe. Rec'd—10/28/2008. Est. Value—$473.00. Location—Archives Foreign | The Honorable Masoud Barzani, President of the Kurdistan Regional Government | Non-acceptance would cause embarrassment to donor and U.S. Government.
First Lady | Floral arrangement of roses and orchids and assorted chocolates by Lenotre Paris. Rec'd—11/4/2008. Est. Value—$1,791.00. Location—Handled pursuant to Secret Service policy | His Majesty Mohammed VI, King of Morocco | Non-acceptance would cause embarrassment to donor and U.S. Government.
First Family | Eight East African Blackwood carved wooden statues, two carved wood wall plaques, and four framed paintings of native people, animals, and scenery. Rec'd—2/18/2008. Est. Value—$8,815.00. Location—Archives Foreign | Mr. Kabissa, Deputy Chief of Protocol, Embassy of the United Republic of Tanzania | Non-acceptance would cause embarrassment to donor and U.S. Government.
First Family | Crystal bowl with “10 Downing Street” etched around the rim. Rec'd—6/16/2008. Est. Value—$1,300.00. Location—Archives Foreign | The Right Honorable James Gordon Brown, M.P., Prime Minister, London | Non-acceptance would cause embarrassment to donor and U.S. Government.
First Family | Porcelain tea set painted with colorful churches and flowers stamped “St. Petersberg 1744” underneath each piece. Rec'd—4/6/2008. Est. Value—$2,444.00. Location—Archives Foreign | His Excellency Vladimir Putin, Chairman of the Government of the Russian Federation, Moscow | Non-acceptance would cause embarrassment to donor and U.S. Government.
First Family | 68″ red, white, and blue beaded American flag spear with 20” matching red, white, and blue beaded American flag shield and a 38” green, blue, and yellow beaded walking stick held in a woven basket. Rec'd—2/18/2008. Est. Value—$4,200.00. Location—Archives Foreign | His Excellency Paul Kagame, President of the Republic of Rwanda, Kigali | Non-acceptance would cause embarrassment to donor and U.S. Government.
First Family | Wood vase made from spalted crabapple, by Garry Bowes. Rec'd—7/24/2008. Est. Value—$350.00. Location—Archives Foreign | The Right Honorable Stephen Harper, P.C., M.P., Prime Minister of Canada, Ottawa | Non-acceptance would cause embarrassment to donor and U.S. Government.
First Family | Various photos of His Excellency and Mrs. Lee Myung-bak with President and Mrs. George H.W. Bush and President and Mrs. George W. Bush in a digital frame and a photo album, three pieces of artwork featuring President and Mrs. Bush, and several books about Korean culture and history. Rec'd—4/16/2008. Est. Value—$3,927.00. Location—Archives Foreign | His Excellency Lee Myung-bak, President of the Republic of Korea, Seoul | Non-acceptance would cause embarrassment to donor and U.S. Government.
First Family | Artwork: 6½″ × 9″ signed photo of President and Mrs. Bush praying with His Holiness Pope Benedict XVI in the Oval Office; held in 11½″ × 15″ sterling silver frame with gold Vatican coat of arms and a hardcover book titled “The Basilica of St. Peter in the Vatican.” Rec'd—6/13/2008. Est. Value—$1,210.00. Location—Archives Foreign | His Holiness Pope Benedict XVI, Vatican City | Non-acceptance would cause embarrassment to donor and U.S. Government.
White House Staff Member. Abrams, Elliott | Jewelry set including men's and women's diamond watches, diamond bracelet, earrings, cufflinks, and ring, and a Tiffany and Co. Atlas pen. Rec'd—1/14/2008. Est. Value—$14,600.00. Location—Transferred to General Services Administrations | Abdullah bin Abd al-Aziz Al Saud, Custodian of the Two Holy Mosques, King of the Kingdom of Saudi Arabia | Non-acceptance would cause embarrassment to donor and U.S. Government.
White House Staff Member. Abrams, Elliott | Large brown robe lined with wool. Rec'd—1/15/2008. Est. Value—$550.00. Location—Transferred to General Services Administrations | Abdullah bin Abd al-Aziz Al Saud, Custodian of the Two Holy Mosques, King of the Kingdom of Saudi Arabia | Non-acceptance would cause embarrassment to donor and U.S. Government.
White House Staff Member. Abrams, Elliott | Framed 10″ × 14″ multicolored abstract painting with Arabic symbols. Rec'd—8/7/2008. Est. Value—$800.00. Location—Transferred to General Services Administrations | Abdullah bin Abd al-Aziz Al Saud, Custodian of the Two Holy Mosques, King of the Kingdom of Saudi Arabia | Non-acceptance would cause embarrassment to donor and U.S. Government.
White House Staff Member. Abrams, Elliott | 7″ gold vermeil statue of a falcon on a jasper stand. Rec'd—1/14/2008. Est. Value—$500.00. Location—Transferred to General Services Administrations | His Highness Sheikh Khalifa bin Zayed Al Nahyan, President of the United Arab Emirates | Non-acceptance would cause embarrassment to donor and U.S. Government.
White House Staff Member. Ansley, Judith | Two E. Marinella silk scarves. Rec'd—6/12/2008. Est. Value—$490.00. Location—Transferred to General Services Administrations | His Excellency Silvio Berlusconi, President of the Council of Ministers of the Italian Republic | Non-acceptance would cause embarrassment to donor and U.S. Government.
White House Staff Member. Bolten, Joshua B | Jewelry set including men's and women's diamond watches, diamond bracelet, earrings, cufflinks, and ring, and a Tiffany and Co. Atlas pen. Rec'd—1/14/2008. Est. Value—$10,225.00. Location—Transferred to General Services Administrations | Abdullah bin Abd al-Aziz Al Saud, Custodian of the Two Holy Mosques, King of the Kingdom of Saudi Arabia | Non-acceptance would cause embarrassment to donor and U.S. Government.
White House Staff Member. Bolten, Joshua B | Large black robe with gold accents lined with wool. Rec'd—1/15/2008. Est. Value—$550.00. Location—Transferred to General Services Administrations | Abdullah bin Abd al-Aziz Al Saud, Custodian of the Two Holy Mosques, King of the Kingdom of Saudi Arabia | Non-acceptance would cause embarrassment to donor and U.S. Government.
White House Staff Member. Bolten, Joshua B | 64″ × 45″ Afghan wool rug with burgundy, brown, blue and orange repeating geometric patterns with 2” beige fringe. Rec'd—5/17/2008. Est. Value—$480.00. Location—Transferred to General Services Administrations | His Excellency Dr. Hamid Karzai, President of the Islamic Republic of Afghanistan | Non-acceptance would cause embarrassment to donor and U.S. Government.
White House Staff Member. Bolten, Joshua B | 37″ × 58″ yellow and burgundy woven rug with floral design. Rec'd—12/14/2008. Est. Value—$1,800.00. Location—Transferred to General Services Administrations | His Excellency Jalal Talabani, President of the Republic of Iraq | Non-acceptance would cause embarrassment to donor and U.S. Government.
White House Staff Member. Bolten, Joshua B | Pair of black platinum plated Delta pens with ink and leather case. Rec'd—6/12/2008. Est. Value—$480.00. Location—Transferred to General Services Administrations | His Excellency Silvio Berlusconi, President of the Council of Ministers of the Italian Republic | Non-acceptance would cause embarrassment to donor and U.S. Government.
White House Staff Member. Bolten, Joshua B | 7″ gold vermeil horse on a green marble stand. Rec'd—1/14/2008. Est. Value—$500.00. Location—Transferred to General Services Administrations | His Highness Sheikh Khalifa bin Zayed Al Nahyan, President of the United Arab Emirates | Non-acceptance would cause embarrassment to donor and U.S. Government.
White House Staff Member. Bolten, Joshua B | 29″ × 41″ abstract multicolored painting of a man sitting; held in a silver-tone frame. Rec'd—8/7/2008. Est. Value—$2,500.00. Location—Transferred to General Services Administrations | His Highness Sheikh Mohammed bin Rashid al-Maktoum, Vice President and Prime Minister of the United Arab Emirates | Non-acceptance would cause embarrassment to donor and U.S. Government.
White House Staff Member. Gillespie, Edward | Jewelry set including a men's diamond watch, diamond earrings, bracelet, cufflinks, and ring, and a Tiffany and Co. Atlas pen. Rec'd—1/14/2008. Est. Value—$13,200.00. Location—Transferred to General Services Administrations | Abdullah bin Abd al-Aziz Al Saud, Custodian of the Two Holy Mosques, King of the Kingdom of Saudi Arabia | Non-acceptance would cause embarrassment to donor and U.S. Government.
White House Staff Member. Gillespie, Edward | 7″ × 4½″ × 2″ lapis box with stone floral design on hinged lid. Rec'd—5/17/2008. Est. Value—$420.00. Location—Transferred to General Services Administrations | His Excellency Dr. Hamid Karzai, President of the Islamic Republic of Afghanistan | Non-acceptance would cause embarrassment to donor and U.S. Government.
White House Staff Member. Gillespie, Edward | Pair of black platinum plated Delta pens with ink and leather case. Rec'd—6/12/2008. Est. Value—$480.00. Location—Handled pursuant to Secret Service policy | His Excellency Silvio Berlusconi, President of the Council of Ministers of the Italian Republic | Non-acceptance would cause embarrassment to donor and U.S. Government.
White House Staff Member. Gillespie, Edward | 5″ gold vermeil horse on a green marble stand. Rec'd—1/14/2008. Est. Value—$350.00. Location—Transferred to General Services Administrations | His Highness Sheikh Khalifa bin Zayed Al Nahyan, President of the United Arab Emirates | Non-acceptance would cause embarrassment to donor and U.S. Government.
White House Staff Member. Hadley, Stephen | Jewelry set including men's and women's watches, diamond ring, bracelet, earrings, and cufflinks, and a Tiffany and Co. Atlas pen. Rec'd—1/14/2008. Est. Value—$15,050.00. Location—Transferred to General Services Administrations | Abdullah bin Abd al-Aziz Al Saud, Custodian of the Two Holy Mosques, King of the Kingdom of Saudi Arabia | Non-acceptance would cause embarrassment to donor and U.S. Government.
White House Staff Member. Hadley, Stephen | Clothing: Large brown robe with gold accents lined with wool; held in a green and white trunk. Rec'd—1/15/2008. Est. Value—$550.00. Location—Transferred to General Services Administrations | Abdullah bin Abd al-Aziz Al Saud, Custodian of the Two Holy Mosques, King of the Kingdom of Saudi Arabia | Non-acceptance would cause embarrassment to donor and U.S. Government.
White House Staff Member. Hadley, Stephen | 9″ sterling silver plate with blue and red floral design on tile insert. Rec'd—6/5/2008. Est. Value—$602.00. Location—Transferred to General Services Administrations | His Excellency Ali Babacan, Minister of Foreign Affairs and Chief EU Negotiator of the Republic of Turkey | Non-acceptance would cause embarrassment to donor and U.S. Government.
White House Staff Member. Hadley, Stephen | 6¼″ white octagon-shaped inlaid jewelry box with floral design on the lid. Rec'd—9/26/2008. Est. Value—$390.00. Location—Transferred to General Services Administrations | His Excellency Dr. Manmohan Singh, Prime Minister of the Republic of India | Non-acceptance would cause embarrassment to donor and U.S. Government.
White House Staff Member. Hadley, Stephen | Pair of black platinum plated Delta pens with ink and leather case. Rec'd—6/12/2008. Est. Value—$480.00. Location—Transferred to General Services Administrations | His Excellency Silvio Berlusconi, President of the Council of Ministers of the Italian Republic | Non-acceptance would cause embarrassment to donor and U.S. Government.
White House Staff Member. Hadley, Stephen | Black leather suitcase with combination locks. Rec'd—8/5/2008. Est. Value—$356.00. Location—Transferred to General Services Administrations | His Excellency Syed Yousaf Raza Gillani, Prime Minister of the Islamic Republic of Pakistan | Non-acceptance would cause embarrassment to donor and U.S. Government.
White House Staff Member. Hadley, Stephen | 8″ gold vermeil ram on a green marble stand. Rec'd—1/14/2008. Est. Value—$650.00. Location—Transferred to General Services Administrations | His Highness Sheikh Khalifa bin Zayed Al Nahyan, President of the United Arab Emirates | Non-acceptance would cause embarrassment to donor and U.S. Government.
White House Staff Member. Hadley, Stephen | Framed 25″ × 31″ painting of a building and a palm tree by the beach. Rec'd—8/8/2008. Est. Value—$650.00. Location—Transferred to General Services Administrations | His Highness Sheikh Mohammed bin Rashid al-Maktoum, Vice President and Prime Minister of the United Arab Emirates | Non-acceptance would cause embarrassment to donor and U.S. Government.
White House Staff Member. Hadley, Stephen | 14″ gold vermeil statue of a camel and two trees on a green marble base. Rec'd—3/26/2008. Est. Value—$1,500.00. Location—Transferred to General Services Administrations | His Majesty Shaikh Hamad Bin Isa Bin Salman Al-Khalifa, King of the Kingdom of Bahrain | Non-acceptance would cause embarrassment to donor and U.S. Government.
White House Staff Member. Hagin, Joe | Jewelry set including a men's and women's watch, diamond bracelet, earrings, cufflinks, and ring, and a Tiffany and Co. Atlas pen. Rec'd—1/14/2008. Est. Value—$10,290.00. Location—Transferred to General Services Administrations | Abdullah bin Abd al-Aziz Al Saud, Custodian of the Two Holy Mosques, King of the Kingdom of Saudi Arabia | Non-acceptance would cause embarrassment to donor and U.S. Government.
White House Staff Member. Hagin, Joe | Large grey robe with gold accents lined with wool. Rec'd—1/15/2008. Est. Value—$550.00. Location—Transferred to General Services Administrations | Abdullah bin Abd al-Aziz Al Saud, Custodian of the Two Holy Mosques, King of the Kingdom of Saudi Arabia | Non-acceptance would cause embarrassment to donor and U.S. Government.
White House Staff Member. Hagin, Joe | Silver business card holder, a book titled “Romania: Tourist Guide” by Maria Pascaru, a black leather attaché case, and a set of eight fabric art prints featuring black and white scenes of Bucharest. Rec'd—4/2/2008. Est. Value—$389.00. Location—Transferred to General Services Administrations | His Excellency Traian Basescu, President of Romania | Non-acceptance would cause embarrassment to donor and U.S. Government.
White House Staff Member. Hagin, Joe | 6” gold vermeil horse on a green marble stand; held in a green leather case. Rec'd—1/14/2008. Est. Value—$500.00. Location—Transferred to General Services Administrations | His Highness Sheikh Khalifa bin Zayed Al Nahyan, President of the United Arab Emirates | Non-acceptance would cause embarrassment to donor and U.S. Government.
White House Staff Member. Jeffrey, James | 6½″ × 8″ porcelain Hermès tray with multicolored rococo patterns and blue and gold lining. Rec'd—7/14/2008. Est. Value—$600.00. Location—Transferred to General Services Administrations | His Excellency Edward Nalbandian, Minister of Foreign Affairs of the Republic of Armenia | Non-acceptance would cause embarrassment to donor and U.S. Government.
White House Staff Member. LTG Lute, Douglas | 69″ × 51″ Afghani rug with diamond pattern and burnt orange, beige, and maroon accents. Rec'd—2/17/2008. Est. Value—$1,000.00. Location—Transferred to General Services Administrations | His Excellency Abdul Rahim Wardak, Minister of Defense of the Islamic Republic of Afghanistan | Non-acceptance would cause embarrassment to donor and U.S. Government.
White House Staff Member. LTG Lute, Douglas | 48″ × 70″ Afghani rug with diamond pattern and burnt orange, beige, and maroon accents. Rec'd—5/9/2008. Est. Value—$480.00. Location—Transferred to General Services Administrations | His Excellency Abdul Rahim Wardak, Minister of Defense of the Islamic Republic of Afghanistan | Non-acceptance would cause embarrassment to donor and U.S. Government.
White House Staff Member. McGurn, William J | Eloga Wintime men's watch with 2 dials, diamonds, and steel strap. Rec'd—1/14/2008. Est. Value—$1,450.00. Location—Transferred to General Services Administrations | Abdullah bin Abd al-Aziz Al Saud, Custodian of the Two Holy Mosques, King of the Kingdom of Saudi Arabia | Non-acceptance would cause embarrassment to donor and U.S. Government.
White House Staff Member. McGurn, William J | Jewelry set with women's watch, diamond cufflinks, earrings, bracelet, and ring, and a Tiffany and Co. Atlas pen. Rec'd—1/14/2008. Est. Value—$11,575.00. Location—Transferred to General Services Administrations | Abdullah bin Abd al-Aziz Al Saud, Custodian of the Two Holy Mosques, King of the Kingdom of Saudi Arabia | Non-acceptance would cause embarrassment to donor and U.S. Government.
White House Staff Member. McGurn, William J | Dark blue robe with black accents lined with wool. Rec'd—1/15/2008. Est. Value—$550.00. Location—Transferred to General Services Administrations | Abdullah bin Abd al-Aziz Al Saud, Custodian of the Two Holy Mosques, King of the Kingdom of Saudi Arabia | Non-acceptance would cause embarrassment to donor and U.S. Government.
White House Staff Member. McGurn, William J | 9″ gold vermeil statue of an Arab man with a bird on a green plastic stand. Rec'd—1/14/2008. Est. Value—$400.00. Location—Transferred to General Services Administrations | His Highness Sheikh Khalifa bin Zayed Al Nahyan, President of the United Arab Emirates | Non-acceptance would cause embarrassment to donor and U.S. Government.
White House Staff Member. McGurn, William J | 7″ gold vermeil horse on a lapis stand. Rec'd—1/14/2008. Est. Value—$500.00. Location—Transferred to General Services Administrations | His Highness Sheikh Khalifa bin Zayed Al Nahyan, President of the United Arab Emirates | Non-acceptance would cause embarrassment to donor and U.S. Government.
White House Staff Member. Perino, Dana | Jewelry set including men's and women's diamond watches, diamond bracelet, earrings, cufflinks, and ring, and a Tiffany and Co. Atlas pen. Rec'd—1/14/2008. Est. Value—$14,625.00. Location—Transferred to General Services Administrations | Abdullah bin Abd al-Aziz Al Saud, Custodian of the Two Holy Mosques, King of the Kingdom of Saudi Arabia | Non-acceptance would cause embarrassment to donor and U.S. Government.
White House Staff Member. Perino, Dana | Wool-lined brown robe with pink accents and a green shawl with various designs. Rec'd—1/15/2008. Est. Value—$670.00. Location—Transferred to General Services Administrations | Abdullah bin Abd al-Aziz Al Saud, Custodian of the Two Holy Mosques, King of the Kingdom of Saudi Arabia | Non-acceptance would cause embarrassment to donor and U.S. Government.
White House Staff Member. Perino, Dana | 7″ gold painted sterling silver statue of a castle on a maroon jasper stand; held in a black leather case. Rec'd—1/14/2008. Est. Value—$500.00. Location—Transferred to General Services Administrations | His Highness Sheikh Khalifa bin Zayed Al Nahyan, President of the United Arab Emirates | Non-acceptance would cause embarrassment to donor and U.S. Government.
White House Staff Member. Price, Daniel | Pair of black platinum plated Delta pens with ink and leather case. Rec'd—6/12/2008. Est. Value—$480.00 Location—Transferred to General Services Administrations | His Excellency Silvio Berlusconi, President of the Council of Ministers of the Italian Republic | Non-acceptance would cause embarrassment to donor and U.S. Government.
White House Staff Member. Ramchard, Nikhil N. | 4½″ silver bowl with Saudi Arabia coat of arms. Rec'd—1/30/2008. Est. Value—$449.00 Location—Transferred to General Services Administrations | His Excellency Adel Al-Jubeir, Ambassador of the Kingdom of Saudi Arabia | Non-acceptance would cause embarrassment to donor and U.S. Government.
White House Staff Member. Rasmussen, Nicholas | Pasha de Cartier ballpoint pen with platinum finish. Rec'd—6/10/2008. Est. Value—$680.00. Location—Transferred to General Services Administrations | The Honorable Ali bin Fetais al-Marri, Attorney General of the State of Qatar | Non-acceptance would cause embarrassment to donor and U.S. Government.
White House Staff Member. Singh, Michael | Framed 9″ × 12″ multicolored abstract painting of various geometric shapes. Rec'd—8/8/2008. Est. Value—$800.00. Location—Transferred to General Services Administrations | His Highness Sheikh Mohammed bin Rashid al-Maktoum, Vice President and Prime Minister of the United Arab Emirates | Non-acceptance would cause embarrassment to donor and U.S. Government.
White House Staff Member. Wainstein, Ken | A book titled “The Construction of Al Hashemi II: A Voyage Through the History of Wooden Ships, A Concise History of Kuwait, The Art of Making Traditional Vessels,” compiled by Abdul Husain Mohammed Rafie Marafie and a small glass block with Kuwait City etched in the center. Rec'd—8/8/2008. Est. Value—$590.00. Location—Transferred to General Services Administration | His Excellency Sheikh Nasser Mohammad Al Sabah, Prime Minister of the State of Kuwait | Non-acceptance would cause embarrassment to donor and U.S. Government.
White House Staff Member. Wainstein, Ken | 38″ silver sword; held in a scabbard and sword case. Rec'd—11/10/2008. Est. Value—$850.00. Location—Transferred to General Services Administrations | The Honorable Ali bin Fetais al-Marri, Attorney General of the State of Qatar | Non-acceptance would cause embarrassment to donor and U.S. Government.
White House Staff Member. Warwood, Jordan | Silver Longines Grande Vitesse men's watch with three dials. Rec'd—8/13/2008. Est. Value—$2,350.00. Location—Transferred to General Services Administrations | His Excellency Ali Fahad Falih al-Shahwany Al-Hajri, Ambassador of the State of Qatar | Non-acceptance would cause embarrassment to donor and U.S. Government.
White House Staff Member. Yanes, Raul | Jewelry set including Philip Stein Teslar men's and women's watches, diamond cufflinks, ring, bracelet, and earrings, and a Tiffany and Co. Atlas pen. Rec'd—1/14/2008. Est. Value—$12,215.00. Location—Transferred to General Services Administrations | Abdullah bin Abd al-Aziz Al Saud, Custodian of the Two Holy Mosques, King of the Kingdom of Saudi Arabia | Non-acceptance would cause embarrassment to donor and U.S. Government.
White House Staff Member. Yanes, Raul | Large grey robe lined with wool, and a beige shawl. Rec'd—1/15/2008. Est. Value—$600.00. Location—Transferred to General Services Administrations | Abdullah bin Abd al-Aziz Al Saud, Custodian of the Two Holy Mosques, King of the Kingdom of Saudi Arabia | Non-acceptance would cause embarrassment to donor and U.S. Government.
White House Staff Member. Yanes, Raul | 7″ gold vermeil statue of a tree and horse on a marble stand. Rec'd—1/14/2008 Est. Value—$500.00. Location—Transferred to General Services Administrations | His Highness Sheikh Khalifa bin Zayed Al Nahyan, President of the United Arab Emirates | Non-acceptance would cause embarrassment to donor and U.S. Government.

AGENCY: The White House, Office of the Vice President
[Report of Tangible Gifts]
Name and title of person accepting the gift on behalf of the U.S. Government | Gift, date of acceptance on behalf of the U.S. Government, estimated value, and current disposition or location | Identity of foreign donor and government | Circumstances justifying acceptance
Vice President Dick Cheney | Ten jars of Oscietra Caspian caviar ($2190); Tovuz cognac ($58); box of pomegranates ($210); ten bottles of pomegrante juice ($260); Rec'd—9/3/2008. Est. Value—$2,718.00. Location—Disposition: Handled pursuant to U.S. Secret Service policy | His Excellency Ilham Aliyev, President of the Republic of Azerbaijan | Non-acceptance would cause embarrassment to donor and U.S. Government.
Vice President Dick Cheney | Photo album. Rec'd—9/3/2008. Est. Value—$295.00. Location—Archives | His Excellency Ilham Aliyev, President of the Republic of Azerbaijan | Non-acceptance would cause embarrassment to donor and U.S. Government.
Vice President Dick Cheney | Handmade silk Azerbaijan carpet. Rec'd—9/3/2008. Est. Value—$6,800. Location—Archives | His Excellency Ilham Aliyev, President of the Republic of Azerbaijan | Non-acceptance would cause embarrassment to donor and U.S. Government.
Mrs. Lynne Cheney | Six tea cups in gold and silver holders ($225); engraved silver bracelet ($95); engraved silver belt ($300); Rec'd—9/3/2008. Est. Value—$620. Location—Archives | His Excellency Ilham Aliyev, President of the Republic of Azerbaijan | Non-acceptance would cause embarrassment to donor and U.S. Government.
Mrs. Lynne Cheney | Preserved fruits and jellies. Rec'd—9/3/2008. Est. Value—$120. Location—Disposition: Handled pursuant to U.S. Secret Service policy | His Excellency Ilham Aliyev, President of the Republic of Azerbaijan | Non-acceptance would cause embarrassment to donor and U.S. Government.
Vice President Dick Cheney and Mrs. Lynne Cheney | White linen embroidered men's shirt ($115); wool wall hanging ($140); white linen embroidered woman's blouse and red beaded necklace ($85); pair of Ukrainian ceramic dolls ($146); two silver brooches in wooden boxes ($150). Rec'd—9/4/2008. Est. Value—$636. Location—Archives | His Excellency Viktor Andriyovych Yushchenko, President of Ukraine | Non-acceptance would cause embarrassment to donor and U.S. Government.
Vice President Dick Cheney and Mrs. Lynne Cheney | Two bottles 1940 Massandra Golden Collection Wine. Rec'd—9/4/2008. Est. Value—$256. Location—Disposition: Handled pursuant to U.S. Secret Service policy | His Excellency Viktor Andriyovych Yushchenko, President of Ukraine | Non-acceptance would cause embarrassment to donor and U.S. Government.
Mrs. Lynne Cheney | Framed photograph ($55); three coffee table books about Ukraine ($195). Rec'd—9/4/2008. Est. Value—$250. Location—Archives | His Excellency Viktor Andriyovych Yushchenko, President of Ukraine | Non-acceptance would cause embarrassment to donor and U.S. Government.
Mrs. Lynne Cheney | Three Ukrainian cookbooks. Rec'd—9/4/2008. Est. Value—$90. Location—Retained | His Excellency Viktor Andriyovych Yushchenko, President of Ukraine | Non-acceptance would cause embarrassment to donor and U.S. Government.
Vice President's daughters and grandchildren | Seven copies of a Ukrainian children's book ($105); six plush stuffed animals ($90); three girls' blouses ($147); three boys' shirts ($117); wooden toy cart with horses ($111). Rec'd—9/4/2008. Est. Value—$570. Location—Retained | His Excellency Viktor Andriyovych Yushchenko, President of Ukraine | Non-acceptance would cause embarrassment to donor and U.S. Government.
Vice President Dick Cheney | Five E. Marinella neckties. Rec'd—11/17/2008. Est. Value—$675. Location—Archives | His Excellency Silvio Berlusconi, President of the Council of Ministers of the Italian Republic | Non-acceptance would cause embarrassment to donor and U.S. Government.
Vice President Dick Cheney | Gold, malachite and mother-of-pearl model of the A.-Massmak Fort, with gold vermeil plaque. Rec'd—3/22/2008. Est. Value—$8,000. Location—Archives | Abdullah bin Abd al-Aziz Al Saud, Custodian of the Two Holy Mosques, King of the Kingdom of Saudi Arabia | Non-acceptance would cause embarrassment to donor and U.S. Government.
Vice President Dick Cheney | The King Abd-al-Aziz Sash (a large gold vermeil medal on a green ribbon sash, with two cloth lapel pins. Rec'd—3/22/2008. Est. Value—$450. Location—Archives | Abdullah bin Abd al-Aziz Al Saud, Custodian of the Two Holy Mosques, King of the Kingdom of Saudi Arabia | Non-acceptance would cause embarrassment to donor and U.S. Government.
Mrs. Lynne Cheney | Two Samsung D880 Duo cell phones. Rec'd—3/22/2008. Est. Value—$1,400. Location—Archives | Abdullah bin Abd al-Aziz Al Saud, Custodian of the Two Holy Mosques, King of the Kingdom of Saudi Arabia | Non-acceptance would cause embarrassment to donor and U.S. Government.
Mrs. Lynne Cheney | 12 kg Saudi Arabian dates ($264); large box of milk chocolates ($250); four bottles of perfumed oils ($96). Rec'd—3/22/2008. Est. Value—$610. Location—Disposition: Handled pursuant to U.S. Secret Service policy | Abdullah bin Abd al-Aziz Al Saud, Custodian of the Two Holy Mosques, King of the Kingdom of Saudi Arabia | Non-acceptance would cause embarrassment to donor and U.S. Government.
Mrs. Lynne Cheney | Diamond and emerald jewelry set. Rec'd—3/22/2008. Est. Value—$65,000. Location—Archives | Abdullah bin Abd al-Aziz Al Saud, Custodian of the Two Holy Mosques, King of the Kingdom of Saudi Arabia | Non-acceptance would cause embarrassment to donor and U.S. Government.
Mrs. Lynne Cheney | Two pairs of Dr. Scholl's high heeled clogs. Rec'd—3/22/2008. Est. Value—$300. Location—Archives | Abdullah bin Abd al-Aziz Al Saud, Custodian of the Two Holy Mosques, King of the Kingdom of Saudi Arabia | Non-acceptance would cause embarrassment to donor and U.S. Government.
Ms. Elizabeth Cheney, Vice President's daughter | Diamond and ruby jewelry set. Rec'd—3/22/2008. Est. Value—$85,000. Location—Archives | Abdullah bin Abd al-Aziz Al Saud, Custodian of the Two Holy Mosques, King of the Kingdom of Saudi Arabia | Non-acceptance would cause embarrassment to donor and U.S. Government.
Ms. Elizabeth Cheney, Vice President's daughter | Three pairs of Dr. Scholl's high heeled clogs. Rec'd—3/22/2008. Est. Value—$450. Location—Archives | Abdullah bin Abd al-Aziz Al Saud, Custodian of the Two Holy Mosques, King of the Kingdom of Saudi Arabia | Non-acceptance would cause embarrassment to donor and U.S. Government.
David Addington, Chief of Staff to the Vice President | White gold and diamond jewelry set. Rec'd—3/22/2008. Est. Value—$16,700. Location—Archives | Abdullah bin Abd al-Aziz Al Saud, Custodian of the Two Holy Mosques, King of the Kingdom of Saudi Arabia | Non-acceptance would cause embarrassment to donor and U.S. Government.
John Hannah, Assistant to the Vice President for National Security Affairs | White gold, emerald and diamond jewelry set. Rec'd—3/22/2008. Est. Value—$14,610. Location—Archives | Abdullah bin Abd al-Aziz Al Saud, Custodian of the Two Holy Mosques, King of the Kingdom of Saudi Arabia | Non-acceptance would cause embarrassment to donor and U.S. Government.
Samantha Ravich, Deputy Assistant to the Vice President for National Security Affairs | Gold jewelry set, with diamonds, quartz and kunzite stones. Rec'd—3/22/2008. Est. Value—$9,425. Location—Archives | Abdullah bin Abd al-Aziz Al Saud, Custodian of the Two Holy Mosques, King of the Kingdom of Saudi Arabia | Non-acceptance would cause embarrassment to donor and U.S. Government.
Robert Karem, Special Assistant to the Vice President for National Security Affairs | White gold, smoky quartz and diamond jewelry set. Rec'd—3/22/2008. Est. Value—$10,250. Location—Archives | Abdullah bin Abd al-Aziz Al Saud, Custodian of the Two Holy Mosques, King of the Kingdom of Saudi Arabia | Non-acceptance would cause embarrassment to donor and U.S. Government.
Lea Anne Foster, Asst. to the Vice President for Communications | Gold vermeil and diamond jewelry set. Rec'd—3/22/2008. Est. Value—$15,350. Location—Archives | Abdullah bin Abd al-Aziz Al Saud, Custodian of the Two Holy Mosques, King of the Kingdom of Saudi Arabia | Non-acceptance would cause embarrassment to donor and U.S. Government.
Vice President Dick Cheney | Ornate plate from the Osmanli Collection. Rec'd—6/12/2008. Est. Value—$1,190. Location—Archives | His Excellency Alli Babacan, Minister of Foreign Affairs of the Republic of Turkey | Non-acceptance would cause embarrassment to donor and U.S. Government.
Mrs. Lynne Cheney | Traditional Kurdish women's clothing—vest, pants and overdress—with 21 Karat gold necklace. Rec'd—4/3/2008. Est. Value—$5,175. Location—Archives | His Excellency Masoud Barzani, President of the Kurdistan Regional Government | Non-acceptance would cause embarrassment to donor and U.S. Government.
Ms. Elizabeth Cheney, Vice President's daughter | Traditional Kurdish women's clothing—vest, pants and overdress—with 21 Karat gold necklace. Rec'd—4/3/2008. Est. Value—$5,175. Location—Archives | His Excellency Masoud Barzani, President of the Kurdistan Regional Government | Non-acceptance would cause embarrassment to donor and U.S. Government.
Vice President Dick Cheney | Large cowskin nesting bowl. Rec'd—1/14/2008. Est. Value—$165. Location—Archives | His Excellency Saqr Ghobash, Embassy of the United Arab Emirates | Non-acceptance would cause embarrassment to donor and U.S. Government.
Vice President Dick Cheney | Gift basket of fruits, nuts, tea and chocolate. Rec'd—1/14/2008. Est. Value—$275. Location—Disposition: Handled pursuant to U.S. Secret Service policy | His Excellency Saqr Ghobash, Embassy of the United Arab Emirates | Non-acceptance would cause embarrassment to donor and U.S. Government.
Vice President Dick Cheney | Twelve E. Marinella neckties. Rec'd—10/15/2008. Est. Value—$1,620. Location—Archives | His Excellency Silvio Berlusconi, President of the Council of Ministers of the Italian Republic | Non-acceptance would cause embarrassment to donor and U.S. Government.
Mrs. Lynne Cheney | Two E. Marinella neckscarves. Rec'd—10/15/2008. Est. Value—$500. Location—Archives | His Excellency Silvio Berlusconi, President of the Council of Ministers of the Italian Republic | Non-acceptance would cause embarrassment to donor and U.S. Government.
Vice President Dick Cheney | Book with sculpted leather cover, entitled Subbi, Paintings of Olev Subbi. Rec'd—4/24/2008. Est. Value—$2,000. Location—Archives | His Excellency Toomas Hendrik Ilves, President of the Republic of Estonia | Non-acceptance would cause embarrassment to donor and U.S. Government.
Vice President Dick Cheney | Brass candelabra covered with lapis lazuli. Rec'd—5/6/2008. Est. Value—$500. Location—Archives | His Excellency Hamid Karzai, President of the Islamic Republic of Afghanistan | Non-acceptance would cause embarrassment to donor and U.S. Government.
Vice President Dick Cheney | Wool carpet of Ghazni Turkmen weave. Rec'd—5/6/2008. Est. Value—$1,200. Location—Archives | His Excellency Hamid Karzai, President of the Islamic Republic of Afghanistan | Non-acceptance would cause embarrassment to donor and U.S. Government.
Vice President Dick Cheney | Wool carpet of Afghanistan origin. Rec'd—4/24/2008. Est. Value—$580. Location—Archives | His Excellency Abdul Khalili, Vice President of the Islamic Republic of Afghanistan | Non-acceptance would cause embarrassment to donor and U.S. Government.
Vice President Dick Cheney | Book of Books, in Hebrew, with leather cover, gilded pages, in a slipcase; First Strike by Shlomo Nakdiman. Rec'd—4/4/2008. Est. Value—$477. Location—Archives | His Excellency Ehud Olmert, Prime Minister of Israel | Non-acceptance would cause embarrassment to donor and U.S. Government.
Vice President Dick Cheney | Sterling silver tea set. Rec'd—4/3/2008. Est. Value—$1,000. Location—Archives | His Majesty Sultan Qaboos Bin Said, Sultan of Oman | Non-acceptance would cause embarrassment to donor and U.S. Government.
Vice President Dick Cheney | Three catalogues from the Museum of Time Pieces at Qasr Al Alam; DVD of Royal Equestrian and Camel Festival. Rec'd—4/3/2008. Est. Value—$210. Location—Retained | His Majesty Sultan Qaboos Bin Said, Sultan of Oman | Non-acceptance would cause embarrassment to donor and U.S. Government.
Vice President Dick Cheney | Sterling silver sculpture of a palm tree. Rec'd—3/26/2008. Est. Value—$1,000. Location—Archives | His Excellency Jalal Talabani, President of Iraq | Non-acceptance would cause embarrassment to donor and U.S. Government.
Vice President Dick Cheney | Wooden inlaid candy box. Rec'd—3/26/2008. Est. Value—$50. Location—Archives | His Excellency Jalal Talabani, President of Iraq | Non-acceptance would cause embarrassment to donor and U.S. Government.
Vice President Dick Cheney | Silk and wool Egyptian carpet in the Isfahan pattern. Rec'd—4/3/2008. Est. Value—$1,050. Location—Archives | Field Marshal Hussein Tantawi, Commander-in-Chief of the Egyptian Armed Forces | Non-acceptance would cause embarrassment to donor and U.S. Government.
Mrs. Lynne Cheney | Gold scarab bracelet with three blue stones. Rec'd—4/3/2008. Est. Value—$750. Location—Archives | Field Marshal Hussein Tantawi, Commander-in-Chief of the Egyptian Armed Forces | Non-acceptance would cause embarrassment to donor and U.S. Government.
Vice President Dick Cheney | Framed print of the Gavrilo Pricip Bridge in Sarajevo. Rec'd—1/7/2008. Est. Value—$450. Location—Archives | His Excellency Dr. Bisera Turkovic, Ambassador of Bosnia & Herzegovina | Non-acceptance would cause embarrassment to donor and U.S. Government.
David Addington, Chief of Staff to the Vice President | Small framed painting of a Bosnian street scene. Rec'd—1/7/2008. Est. Value—$350. Location—General Services Administration | His Excellency Dr. Bisera Turkovic, Ambassador of Bosnia & Herzegovina | Non-acceptance would cause embarrassment to donor and U.S. Government.
Vice President Dick Cheney | Framed antique map of the Lithuanian region. Rec'd—9/26/2008. Est. Value—$420. Location—Archives | His Excellency Yuriy Yekhanurov, Defense Minister of Ukraine | Non-acceptance would cause embarrassment to donor and U.S. Government.
John Hannah, Assistant to the Vice President for National Security Affairs | Zilli necktie ($398); Perry Ellis Parfum ($109); Alpina Chocolates ($108). Rec'd—2/5/2008. Est. Value—$605. Location—General Services Administration | Qassim Abbas Daoud, Council of Representatives United Iraqi Alliance | Non-acceptance would cause embarrassment to donor and U.S. Government.
John Hannah, Assistant to the Vice President for National Security Affairs | Wool carpet of Afghanistan origin. Rec'd—5/6/2008. Est. Value—$790. Location—General Services Administration | His Excellency Hamid Karzai, President of the Islamic Republic of Afghanistan | Non-acceptance would cause embarrassment to donor and U.S. Government.
David Addington, Chief of Staff to the Vice President | Wool carpet of Afghanistan origin. Rec'd—5/6/2008. Est. Value—$800. Location—General Services Administration | His Excellency Hamid Karzai, President of the Islamic Republic of Afghanistan | Non-acceptance would cause embarrassment to donor and U.S. Government.
Samantha Ravich, Deputy Asst. to the Vice President for National Security Affairs | Wool carpet of Afghanistan origin. Rec'd—5/6/2008. Est. Value—$800. Location—General Services Administration | His Excellency Hamid Karzai, President of the Islamic Republic of Afghanistan | Non-acceptance would cause embarrassment to donor and U.S. Government.
John Hannah, Assistant to the Vice President for National Security Affairs | Zilli necktie ($398); Valentino necktie ($98). Rec'd—6/11/2008. Est. Value—$496. Location—General Services Administration | Sadiq al Rikabi, Iraqi General Director for External Relations | Non-acceptance would cause embarrassment to donor and U.S. Government

AGENCY: Department of State
[Report of Tangible Gifts]
Name and title of person accepting the gift on behalf of the U.S. Government | Gift, date of acceptance on behalf of the U.S. Government, estimated value, and current disposition or location | Identity of foreign donor and government | Circumstances justifying acceptance
The Honorable Condoleezza Rice, Secretary of State of the United States | Ceremonial (traditional) robe in velvet and wood chest with gold decoration. Rec'd—January 13, 2008. Est. Value—$850.00. Location—Pending Transfer to General Services Administration | His Royal Highness Abdullah bin Abd al-Aziz Al Saud, Custodian of the Two Holy Mosques and King of the Kingdom of Saudi Arabia | Non-acceptance would cause embarrassment to donor and U.S. Government.
The Honorable Condoleezza Rice, Secretary of State of the United States | Pearl choker. Rec'd—November 9, 2008. Est. Value—$1,400.00. Location—Pending Transfer to General Services Administration | Ms. Benita Ferrero-Waldner, Member of the European Commission External Relations and Neighborhood Policy | Non-acceptance would cause embarrassment to donor and U.S. Government.
The Honorable Condoleezza Rice, Secretary of State of the United States | Painting of Khobe Indian woman from Chiriqui, Panama. Rec'd—December 9, 2008. Est. Value—$440.00. Location—Pending Transfer to General Services Administration | His Excellency Samuel Lewis Navarro, First Vice-President and Foreign Minister of the Republic of Panama | Non-acceptance would cause embarrassment to donor and U.S. Government.
The Honorable Condoleezza Rice, Secretary of State of the United States | 1. 2 framed political cartoons (and binder explaining significance of items) 2. jersey with Secretary Rice's name on back 3. 4 classical music CDs. Rec'd—December 8, 2008. Est. Value—$388.00. Location—Pending Transfer to General Services Administration | The Right Honorable David Miliband, Secretary of State for Foreign and Commonwealth Affairs of the United Kingdom | Non-acceptance would cause embarrassment to donor and U.S. Government.
The Honorable Condoleezza Rice, Secretary of State of the United States | Framed picture made of silk fabric strings in design of flowers. Rec'd—December 12, 2008. Est. Value—$440.00. Location—Pending Transfer to General Services Administration | His Excellency Dai Bingguo, State Councilor of the People's Republic of China | Non-acceptance would cause embarrassment to donor and U.S. Government.
The Honorable Condoleezza Rice, Secretary of State of the United States | 1. Book—Prince Mohamed Bolkiah, Time and the River, a Memoir—signed with dedication 2. Gold coin with picture of Sultan Haji Hassanal Bolkiah. Rec'd—December 14, 2008. Est. Value—$895.00. Location—Pending Transfer to General Services Administration | His Excellency Bandar Seri Begawan, Minister of Foreign Affairs and Trade of Brunei Darussalam | Non-acceptance would cause embarrassment to donor and U.S. Government.
The Honorable Condoleezza Rice, Secretary of State of the United States | Lalique crystal perfume bottle. Rec'd—June 12, 2008. Est. Value—$878.00. Location—Pending Transfer to General Services Administration | His Excellency Bernard Kouchner, Minister of Foreign Affairs of the French Republic | Non-acceptance would cause embarrassment to donor and U.S. Government.
The Honorable Condoleezza Rice, Secretary of State of the United States | Ornate glass (crystal) perfume decanter with frosted floral detail from the “Crystal de Sevres” company in France. Rec'd—January 31, 2008. Est. Value—$385.00. Location—Pending Transfer to General Services Administration | His Excellency Hervé Morin, Minister of Defense of the French Republic | Non-acceptance would cause embarrassment to donor and U.S. Government.
The Honorable Condoleezza Rice, Secretary of State of the United States | Necklace—single pearl on black cord. Rec'd—February 27, 2008. Est. Value—$520.00. Location—Pending Transfer to General Services Administration | His Excellency Takeo Kawamura, Chief Cabinet Secretary of Japan | Non-acceptance would cause embarrassment to donor and U.S. Government.
The Honorable Condoleezza Rice, Secretary of State of the United States | 1. Diamond ring in wood box 2. DVD with musical instrument 3. Locket with Qadhafi's photo. Rec'd—September 5, 2008. Est. Value—$212,225.00. Location—Pending Transfer to General Services Administration | Colonel Muammar Abu Minyar al-Qadhafi, Leader of the Revolution of the Great Socialist People's Libyan Arab Jamahiriya | Non-acceptance would cause embarrassment to donor and U.S. Government.
The Honorable Condoleezza Rice, Secretary of State of the United States | Decorative silver plated and coral boat in leather display case. Rec'd—September 6, 2008. Est. Value—$360.00. Location—Pending Transfer to General Services Administration | His Excellency Abdelaziz Bouteflika, President of the People's Democratic Republic of Algeria | Non-acceptance would cause embarrassment to donor and U.S. Government.
The Honorable Condoleezza Rice, Secretary of State of the United States | Heavy metal (bronze) statue of a woman. Rec'd—July 15, 2008. Est. Value—$585.00. Location—Pending Transfer to General Services Administration | His Excellency Blaise Compaoré, President of Burkina Faso | Non-acceptance would cause embarrassment to donor and U.S. Government.
The Honorable Condoleezza Rice, Secretary of State of the United States | Sabre with brass hilt and leather handgrip; sheath has a dedication plaque to Secretary Rice. Rec'd—August 20, 2008. Est. Value—$400.00. Location—Pending Transfer to General Services Administration | His Excellency Lech Kaczynski, President of the Republic of Poland on behalf of the People of Poland | Non-acceptance would cause embarrassment to donor and U.S. Government.
The Honorable Condoleezza Rice, Secretary of State of the United States | Watercolor of Secretary Rice. Rec'd—June 29, 2008. Est. Value—$1,200.00. Location—Pending Transfer to General Services Administration | His Excellency Yang Jiechi, Minister of Foreign Affairs of the People's Republic of China | Non-acceptance would cause embarrassment to donor and U.S. Government.
The Honorable Condoleezza Rice, Secretary of State of the United States | Painting of old house by Pavel Mitkov. Rec'd—July 9, 2008. Est. Value—$900.00. Location—Pending Transfer to General Services Administration | His Excellency Sergei Stanishev, Prime Minister of the Republic of Bulgaria | Non-acceptance would cause embarrassment to donor and U.S. Government.
The Honorable Condoleezza Rice, Secretary of State of the United States | China tea set—teapot, mugs and saucers. Rec'd—July 8, 2008. Est. Value—$680.00. Location—Pending Transfer to General Services Administration | His Excellency Karel Schwarzenberg, Minister of Foreign Affairs of the Czech Republic | Non-acceptance would cause embarrassment to donor and U.S. Government.
The Honorable Condoleezza Rice, Secretary of State of the United States | Framed figure of Princess Olha and medals. Rec'd—April 1, 2008. Est. Value—$520.00. Location—Pending Transfer to General Services Administration | His Excellency Volodymyr Ohryzko, Minister of Foreign Affairs of Ukraine | Non-acceptance would cause embarrassment to donor and U.S. Government.
The Honorable Condoleezza Rice, Secretary of State of the United States | 18k yellow gold Liberian “ V” Bracelet. Rec'd—February 19, 2008. Est. Value—$420.00. Location—Pending Transfer to General Services Administration | Her Excellency Olubanke King-Akerele, Minister of Foreign Affairs of the Republic of Liberia | Non-acceptance would cause embarrassment to donor and U.S. Government.
The Honorable Condoleezza Rice, Secretary of State of the United States | 18k yellow gold filigree bracelet with scarab design. Rec'd—March 25, 2008. Est. Value—$950.00. Location—Pending Transfer to General Services Administration | Field Marshall Mohamed Hussein Tantawi, Commander in Chief of the Egyptian Armed Forces of the Arab Republic of Egypt | Non-acceptance would cause embarrassment to donor and U.S. Government.
The Honorable Condoleezza Rice, Secretary of State of the United States | 18k yellow gold neckace, bracelet, and earrings with Andrinka symbols of Ghana. Rec'd—February 20, 2008. Est. Value—$2,250.00. Location—Pending Transfer to General Services Administration | His Excellency John Agyekum Kufuor, President of the Republic of Ghana | Non-acceptance would cause embarrassment to donor and U.S. Government.
The Honorable Condoleezza Rice, Secretary of State of the United States | 1. Gold, diamond and saphire set with necklace, ring, bracelet and earrings 2. Ceremonial robe and scarf (red and blue). Rec'd—January 14, 2008. Est. Value—$230,145.00. Location—Pending Transfer to General Services Administration | His Royal Highness Abdullah bin Abd al-Aziz Al Saud, Custodian of the Two Holy Mosques and King of the Kingdom of Saudi Arabia | Non-acceptance would cause embarrassment to donor and U.S. Government.
The Honorable Condoleezza Rice, Secretary of State of the United States | 1. Book: “ Museum of Historical Treasures of Ukraine” 2. “ Scythian Gold” framed pictorials in gold of ancient history of Ukraine. Rec'd—September 22, 2008. Est. Value—$415.00. Location—Pending Transfer to General Services Administration | His Excellency Volodymyr Ohryzko, Minister of Foreign Affairs of Ukraine | Non-acceptance would cause embarrassment to donor and U.S. Government.
The Honorable Condoleezza Rice, Secretary of State of the United States | Plaque from the 2008 Olympics—5 gold-plated Olympic mascots, limited edition #22,470 of 50,000. Rec'd—January 1, 2008. Est. Value—$1,000.00. Disposition—Permission to Retain for official use only | Unknown Foreign Government Official, People's Republic of China | Non-acceptance would cause embarrassment to donor and U.S. Government.
The Honorable Condoleezza Rice, Secretary of State of the United States | Framed picture of trees on hillside surrounding stream made of amber and quartz. Rec'd—September 29, 2008. Est. Value—$385.00. Location—Pending Transfer to General Services Administration | Her Excellency Yuliya Volodymyrivna Tymoshenko, Prime Minister of Ukraine | Non-acceptance would cause embarrassment to donor and U.S. Government.
The Honorable Condoleezza Rice, Secretary of State of the United States | 1. 1 Bottle (2.5 fl oz) of Guerlain perfume with sprayer 2. porcelain dish by Hermes. Rec'd—July 14, 2008. Est. Value—$1,120.00. Location—Pending Transfer to General Services Administration | His Excellency Edward Nalbandian, Minister of Foreign Affairs of the Republic of Armenia | Non-acceptance would cause embarrassment to donor and U.S. Government.
The Honorable Condoleezza Rice, Secretary of State of the United States | 3 screen picture frame with Indian art. Rec'd—March 24, 2008. Est. Value—$365.00. Location—Pending Transfer to General Services Administration | His Excellency Pranab Kumar Mukherjee, Minister of External Affairs of the Republic of India | Non-acceptance would cause embarrassment to donor and U.S. Government.
The Honorable Condoleezza Rice, Secretary of State of the United States | Gold arched building with clock, entitled “Babel Bahrain”. Rec'd—March 24, 2008. Est. Value—$940.00. Location—Pending Transfer to General Services Administration | His Majesty King Hamad Bin Isa Bin Salman Al-Khalifa, King of the Kingdom of Bahrain | Non-acceptance would cause embarrassment to donor and U.S. Government.
The Honorable Condoleezza Rice, Secretary of State of the United States | 1. Tan and grey bowl with leaf design signed by artist at bottom 2. Larger tan and grey bowl with leaf design signed by artist at bottom—arrived BROKEN. Rec'd—November 5, 2008. Est. Value—$570.00. Location—Pending Transfer to General Services Administration | His Majesty King Abdullah II bin Al Hussein, King of the Hashemite Kingdom of Jordan | Non-acceptance would cause embarrassment to donor and U.S. Government.
The Honorable Condoleezza Rice, Secretary of State of the United States | Leather presentation box with (1) glass candle votive with mother-of-pearl and tooled leather decor, (2) mother-of-pearl photo frame, (3) candle holder (4) leather desk decorations. Rec'd—January 16, 2008. Est. Value—$425.00. Location—Pending Transfer to General Services Administration | His Majesty and Her Majesty King Abdullah and Queen Rania, King and Queen of the Hashemite Kingdom of Jordan | Non-acceptance would cause embarrassment to donor and U.S. Government.
The Honorable Condoleezza Rice, Secretary of State of the United States | Rug 36″ × 60″ in green bag. Rec'd—October 24, 2008. Est. Value—$350.00. Location—Pending Transfer to General Services Administration | His Excellency Rehman Malik, Minister of Interior of the Islamic Republic of Pakistan | Non-acceptance would cause embarrassment to donor and U.S. Government.
The Honorable Condoleezza Rice, Secretary of State of the United States | Framed carpet (probably silk on wool), autumn landscape with trees on the sides, path in the middle—approx 3.5′ × 2.5′. Rec'd—January 15, 2008. Est. Value—$550.00. Location—Pending Transfer to General Services Administration | His Excellency Sayyed Abdul Aziz Al-Hakim, Chairman of the Supreme Council for Islamic Revolution in Iraq | Non-acceptance would cause embarrassment to donor and U.S. Government.
The Honorable Condoleezza Rice, Secretary of State of the United States | Statue of a golden eagle on a marble stone slab, received with damage to the base. Rec'd—January 13, 2007. Est. Value—$1,850.00. Location—Pending Transfer to General Services Administration | His Highness Sheikh Khalifa bin Zayed Al Nahyan, President of the United Arab Emirates | Non-acceptance would cause embarrassment to donor and U.S. Government.
The Honorable Condoleezza Rice, Secretary of State of the United States | Painting by Hussein Sherif in black leather case, 19″ × 12.5″. Rec'd—July 21, 2008. Est. Value—$780.00. Location—Pending Transfer to General Services Administration | His Excellency Abdullah bin Zayed, Foreign Minister of the United Arab Emirates | Non-acceptance would cause embarrassment to donor and U.S. Government.
The Honorable Condoleezza Rice, Secretary of State of the United States | Abstract painting. Rec'd—August 8, 2008. Est. Value—$6,400.00. Location—Pending Transfer to General Services Administration | His Highness Mohammad bin Rashid al Maktoum, Vice President and Prime Minister of the United Arab Emirates and Ruler of Dubai | Non-acceptance would cause embarrassment to donor and U.S. Government.
The Honorable Condoleezza Rice, Secretary of State of the United States | 1. Moroccan pottery plate and bowl set 2. Book on Marrakech. Rec'd—September 6, 2008. Est. Value—$380.00. Location—Pending Transfer to General Services Administration | His Excellency Abbas El Fassi, Prime Minister of the Kingdom of Morocco | Non-acceptance would cause embarrassment to donor and U.S. Government.
The Honorable Condoleezza Rice, Secretary of State of the United States | Replica of a gold cup found in Trialeti, village Tsalkaddoring excavations dated XVIII-XVII B.C. Rec'd—March 19, 2008. Est. Value—$590.00. Location—Pending Transfer to General Services Administration | His Excellency Mikheil Saakashvili, President of Georgia | Non-acceptance would cause embarrassment to donor and U.S. Government.
The Honorable Condoleezza Rice, Secretary of State of the United States | 1. Silver and aromatic-wood ornamental vessel 2. Silver and aromatic-wood perfume bottle-shaped table ornament. Rec'd—September 6, 2008. Est. Value—$625.00. Location—Pending Transfer to General Services Administration | His Excellency Zine El-Abidine Ben Ali, President of the Republic of Tunisia | Non-acceptance would cause embarrassment to donor and U.S. Government.
The Honorable Condoleezza Rice, Secretary of State of the United States | 1. Jeweled chalase (gold cup) inside wooden box. 2. Tbilivno—special reserve wine. 3. Sarajishvili—Georgian Cognac. Rec'd—July 9, 2008. Est. Value—$360.00. Location—Pending Transfer to General Services Administration | His Excellency Mikheil Saakashvili, President of Georgia | Non-acceptance would cause embarrassment to donor and U.S. Government.
The Honorable Condoleezza Rice, Secretary of State of the United States | 1: Bottle of fragrance for women—Eau de Parfum “Amouge Lyric”. 2: Bottle of fragrance for men “Amouge Lyric”. Rec'd—October 6, 2008. Est. Value—$510.00. Location—Pending Transfer to General Services Administration | His Excellency Badr Hamad Hamood Al-Busaidi, Secretary General and Minister of Foreign Affairs of the Sultanate of Oman | Non-acceptance would cause embarrassment to donor and U.S. Government.
The Honorable Nancy G. Brinker, Chief of Protocol | Gold-plated camel and man walking in water, gold waves on tap of 4 sacks on camel back with molded faux marble/green plastic base. Rec'd—January 2, 2008. Est. Value—$880.00. Location—Pending Transfer to General Services Administration | His Highness Sheikh Khalifa bin Zayed Al Nahyan, President of the United Arab Emirates | Non-acceptance would cause embarrassment to donor and U.S. Government.
The Honorable Michele Sison, U.S. Ambassador to the United Arab Emirates | Gold-plated figure of kneeling boy holding onto standing goat with head lowered, on faux marble green plastic base. Rec'd—January 2, 2008. Est. Value—$800.00. Location—Pending Transfer to General Services Administration | His Highness Sheikh Khalifa bin Zayed Al Nahyan, President of the United Arab Emirates | Non-acceptance would cause embarrassment to donor and U.S. Government.
The Honorable Ford Fraker, U.S. Ambassador to Saudi Arabia | (1) His and Hers black and white watches (2) silver cufflinks (3) diamond earrings, lattice bracelet, and ring set (4) silver pen with diamonds. Rec'd—January 14, 2008. Est. Value—$45,000.00. Location—Pending Transfer to General Services Administration | His Royal Highness Abdullah bin Abd al-Aziz Al Saud, Custodian of the Two Holy Mosques and King of the Kingdom of Saudi Arabia | Non-acceptance would cause embarrassment to donor and U.S. Government.
The Honorable Clark T. Randt, Jr., U.S. Ambassador to the People's Republic of China | Bronze “ ding” a vessel used in ancient China, approximately 10 pounds. Rec'd—October 21, 2008. Est. Value—$400.00. Disposition—Permission to Retain for official use only | His Excellency Dai Bingguo, State Councilor of the People's Republic of China | Non-acceptance would cause embarrassment to donor and U.S. Government.
The Honorable Nancy G. Brinker, Chief of Protocol | 1: Robe; silk with paisley design in red and ivory, bancs of goldwrapped thread, lined in golden yellow cat-type fur 2: Shawl; wool, 5-petal rosettes, beige and maroon; both held in red and white velour box with 2 combo locks. Rec'd—January 1, 2008. Est. Value—$2,510.00. Location—Pending Transfer to General Services Administration | His Royal Highness Abdullah bin Abd al-Aziz Al Saud, Custodian of the Two Holy Mosques and King of the Kingdom of Saudi Arabia | Non-acceptance would cause embarrassment to donor and U.S. Government.
The Honorable Peter Coneway, U.S. Ambassador to Switzerland | $2,700 Swiss Francs in cash. Rec'd—November 19, 2008. Est. Value—$2,464.34. Location—Pending Transfer to General Services Administration | His Excellency Francesco Canalini, Apostolic Nuncio of the Holy See | Non-acceptance would cause embarrassment to donor and U.S. Government.
Bryan Langley, Assistant Chief of Protocol | Rolex watch style M499314 # 116000-70200. Rec'd—August 29, 2008. Est. Value—$3,750.00. Location—Pending Transfer to General Services Administration | His Highness Mohammad bin Rashid al Maktoum, Vice President and Prime Minister of the United Arab Emirates and Ruler of Dubai | Non-acceptance would cause embarrassment to donor and U.S. Government.
The Honorable David Welch, Assistant Secretary of State for Near Eastern Affairs | 1. Green leather briefcase 2. silver pen with diamonds 3. silver cufflinks 4. ladies' watch with blue face and band 5. men's watch with white face 6. Sapphire and diamond set of earrings, bracelet and ring. Rec'd—January 14, 2008. Est. Value—$45,000.00. Location—Pending Transfer to General Services Administration | His Royal Highness Abdullah bin Abd al-Aziz Al Saud, Custodian of the Two Holy Mosques and King of the Kingdom of Saudi Arabia | Non-acceptance would cause embarrassment to donor and U.S. Government.
The Honorable Sean McCormack, Assistant Secretary of State for Public Affairs and Department Spokesman | Men's watch, RADO brand with small likeness of Qadhafi's face on watch face. Rec'd—September 4, 2008. Est. Value—$800.00. Location—Pending Transfer to General Services Administration | Colonel Muammar Abu Minyar al-Qadhafi, Leader of the Revolution of the Great Socialist People's Libyan Arab Jamahiriya | Non-acceptance would cause embarrassment to donor and U.S. Government.
The Honorable Nancy G. Brinker, Chief of Protocol | (1) His and Hers watches (2) emerald and diamond bracelet, earrings, and ring set (3) cufflinks with onyx (4) Tiffany's pen. Rec'd—January 14, 2008. Est. Value—$65,000.00. Location—Pending Transfer to General Services Administration | His Royal Highness Abdullah bin Abd al-Aziz Al Saud, Custodian of the Two Holy Mosques and King of the Kingdom of Saudi Arabia | Non-acceptance would cause embarrassment to donor and U.S. Government.
The Honorable Clark T. Randt, Jr., U.S. Ambassador to the People's Republic of China | Traditional Chinese small clay teapot produced by artist. Rec'd—September 22, 2008. Est. Value—$1,857.00. Disposition—Permission to Retain for official use only | Mr. Lu Chang Cheng, Director General of the Public Security Bureau of Beijing Capital International Airport | Non-acceptance would cause embarrassment to donor and U.S. Government.
The Honorable Clark T. Randt, Jr., U.S. Ambassador to the People's Republic of China | Traditional rug, approximately 3x5 feet, red with colored pattern. Rec'd—October 10, 2008. Est. Value—$500.00. Disposition—Permission to Retain for official use only | His Excellency Ahmad Eklil Hakimi, Ambassador of Afghanistan to China | Non-acceptance would cause embarrassment to donor and U.S. Government.
Jess Baily, U.S. Team Leader, Erbil Regional Reconstruction Team in Iraq | 6.1 × 4.2 foot silk carpet of Iranian origin. Rec'd—June 23, 2008. Est. Value—$1,900.00. Location—Transfer to General Services Administration | His Excellency Nechervan Idris Barzani, Prime Minister of the Kurdistan Regional Government in Erbil, Iraq | Non-acceptance would cause embarrassment to donor and U.S. Government.
The Honorable David Hale, U.S. Ambassador to Jordan | One Audemars Piguet Royal Oak Jumbo watch with steel bracelet and white dial. Rec'd—February 7, 2008. Est. Value—$12,500.00. Location—Pending Transfer to General Services Administration | His Majesty Abdullah II bin al Hussein, King of the Hashemite Kingdom of Jordan | Non-acceptance would cause embarrassment to donor and U.S. Government.
Tatum Fraites, Intern in the Office of the Chief of Protocol | Women's silver TagHeuer watch with pink face, “Aqua Pacer” REC3082. Rec'd—September 3, 2008. Est. Value—$2,600.00. Location—Pending Transfer to General Services Administration | His Highness Mohammad bin Rashid al Maktoum, Vice President and Prime Minister of the United Arab Emirates and Ruler of Dubai | Non-acceptance would cause embarrassment to donor and U.S. Government.
Veronica Ruano, Protocol Officer | Women's silver TagHeuer watch— “Aqua Pacer” ERM9625. Rec'd—August 26, 2008. Est. Value—$1,500.00. Location—Pending Transfer to General Services Administration | His Highness Mohammad bin Rashid al Maktoum, Vice President and Prime Minister of the United Arab Emirates and Ruler of Dubai | Non-acceptance would cause embarrassment to donor and U.S. Government.
Thomas Rathburn, Budget Analyst for Office of the Chief of Protocol | Men's TagHeuer Watch—silver with black face. Rec'd—August 29, 2008. Est. Value—$3,400.00. Location—Pending Transfer to General Services Administration | His Highness Mohammad bin Rashid al Maktoum, Vice President and Prime Minister of the United Arab Emirates and Ruler of Dubai | Non-acceptance would cause embarrassment to donor and U.S. Government.
The Honorable David Hale, U.S. Ambassador to Jordan | One MTM Special Ops Black Predator Military watch. Rec'd—July 2, 2008. Est. Value—$450.00. Location—Pending Transfer to General Services Administration | His Majesty King Abdullah II bin al Hussein, King of the Hashemite Kingdom of Jordan and His Excellency Prince Faisal Al Fayez, Minister of the Royal Court of the Hashemite Kingdom of Jordan | Non-acceptance would cause embarrassment to donor and U.S. Government.
The Honorable Goli Ameri, Assistant Secretary of State for Educational and Cultural Affairs | Synthetic, red and yellow Persian Rug, 4 × 6 feet. Rec'd—July 17, 2008. Est. Value—$340.00. Location—Pending Transfer to General Services Administration | His Excellency Bahram Aksharzaden, President of the Islamic Republic of Iran Weightlifting Federation, Iranian Ministry of Sport | Non-acceptance would cause embarrassment to donor and U.S. Government

AGENCY: Central Intelligence Agency
[Report of Tangible Gifts]
Name and title of person accepting the gift on behalf of the U.S. Government | Gift, date of acceptance on behalf of the U.S. Government, estimated value, and current disposition or location | Identity of foreign donor and government | Circumstances justifying acceptance
The Honorable Michael V. Hayden, Director | Sword with a copper and brass hilt in a leather scabbard. Rec'd—1/18/2008. Est. Value—$400.00. Location—To be retained for official display in appropriate office space | 5 U.S.C. 7342(f)(4) | Non-acceptance would cause embarrassment to donor and U.S. Government.
The Honorable Michael V. Hayden, Director | Enamel and gilt sword with scabbard scimitar. Rec'd—3/12/2008. Est. Value—$500.00. Location—To be retained for official display in appropriate office space | 5 U.S.C. 7342(f)(4) | Non-acceptance would cause embarrassment to donor and U.S. Government.
The Honorable Michael V. Hayden, Director | Brass and green enamel model of a building, mounted on a green marble base. Rec'd—6/9/2008. Est. Value—$400.00. Location—To be retained for official display in appropriate office space | 5 U.S.C. 7342(f)(4) | Non-acceptance would cause embarrassment to donor and U.S. Government.
Mr. Stephen R. Kappes, Deputy Director | Gold plated replica of a building on a green leather plinth. Rec'd—12/17/2008. Est. Value—$400.00. Location—To be retained for official display in appropriate office space | 5 U.S.C. 7342(f)(4) | Non-acceptance would cause embarrassment to donor and U.S. Government.
An Agency Employee | Silk rug, 6 feet by 4 feet, red and navy with zig zag border. Rec'd—9/28/2007. Est. Value—$500.00. Location—To be retained for official display in appropriate office space | 5 U.S.C. 7342(f)(4) | Non-acceptance would cause embarrassment to donor and U.S. Government.
An Agency Employee | Silk rug, 6 feet by 4 feet, red and navy with zig zag border. Rec'd—9/28/2007. Est. Value—$500.00. Location—To be retained for official display in appropriate office space | 5 U.S.C. 7342(f)(4) | Non-acceptance would cause embarrassment to donor and U.S. Government.

AGENCY: Department of Air Force
[Report of Tangible Gifts]
Name and title of person accepting the gift on behalf of the U.S. Government | Gift, date of acceptance on behalf of the U.S. Government, estimated value, and current disposition or location | Identity of foreign donor and government | Circumstances justifying acceptance
Colonel Martin J. Schans, Commander, 47th Operations Group Laughlin AFB, TX | Gentlemen's Rolex Date Just Watch. Rec'd—7/29/2007. Est. Value—$4,403.00. Location—Transferred to GSA on 23 April 2008 | Major General Mohhamed Al-Ayeesh, Deputy Commander, Royal Saudi Air Force | Non-acceptance would cause embarrassment to donor and U.S. Government.
Major General Vern M. Dindley II, Director, Strategy, Plans and Policy United States Central Command (USCENTCOM), MacDill AFB, FL | Fendi (Swiss) Automatic Wristwatch. Rec'd—1/16/2008. Est. Value—$895.00. Location—Transferred to GSA on 23 April 2008 | Major General Muhammad Sowaidan Al Gimzy, Chairman of Defense Representative, United Arab Emirates | Non-acceptance would cause embarrassment to donor and U.S. Government.
Colonel Daniel Charchian, Chief, Air Force Division, United States Military Training Mission to Saudi Arabia (USMTM), Riyadh, Saudi Arabia | Raymond Weil Tango Wristwatch. Rec'd—9/3/2008. Est. Value—$695.50. Location—Transferred to GSA on 15 October 2008 | Lieutenant General Al-Faisal, Commander, Royal Saudi Air Force, Kingdom of Saudi Arabia | Non-acceptance would cause embarrassment to donor and U.S. Government.
Colonel Frank E. Fields, Commander, 437th Operations Group, Charleston, SC | Grovana Wristwatch ($419); Givenchy Wallet ($250); Angel Schlessor Cologne for Men, 50 ml ($55). Rec'd—1/1/2008. Est. Value—$724.00. Location—Transferred to GSA on 15 October 2008 | Maj Gen Hamed Bin Ali Al-Attiyah, Chief of Staff for the Qatar Armed Forces | Non-acceptance would cause embarrassment to donor and U.S. Government.
Colonel Frank E. Jones, 437th Mission Support Group Commander, Charleston, SC | TechnoMarine Wristwatch ($617); Givenchy Wallet ($250); JBR Wallet ($250); Angel Schlessor Cologne for Men, 50 ml ($55). Rec'd—1/1/2008. Est. Value—$2,172.00. Location—Transferred to GSA on 15 October 2008 | Major General Hamed Bin Ali Al-Attiyah, Chief of Staff for the Qatar Armed Forces | Non-acceptance would cause embarrassment to donor and U.S. Government.
Colonel Donnalee Sykes, 437th Medical Group, Charleston, SC | TechnoMarine Wristwatch ($617); Givenchy Wallet ($250); Givenchy Very Irresistible Cologne for Men ($64). Rec'd—1/1/2008. Est. Value—$931.00. Location—Transferred to GSA on 15 October 2008 | Major General Hamed Bin Ali Al-Attiyah, Chief of Staff for the Qatar Armed Forces | Non-acceptance would cause embarrassment to donor and U.S. Government.
Mr. Norman Moore, Deputy Commander, 437th Maintenance Group, Charleston, SC | TechnoMarine Wristwatch ($578); Givenchy Wallet ($250). Rec'd—1/1/2008. Est. Value—$828.00. Location—Transferred to GSA on 15 October 2008 | Major General Hamed Bin Ali Al-Attiyah, Chief of Staff for the Qatar Armed Forces | Non-acceptance would cause embarrassment to donor and U.S. Government.
Lieutenant Colonel Leon Strickland, 16th Airlift Squadron, Qatar Visit Project Officer, Charleston, SC | Concord Saratoga Ladies Watch ($649); Givenchy Very Irresistible for Men ($64). Rec'd—1/1/2008. Est. Value—$649.00. Location—Transferred to GSA on 15 October 2008 | Major General Hamed Bin Ali Al-Attiyah, Chief of Staff for the Qatar Armed Forces | Non-acceptance would cause embarrassment to donor and U.S. Government.
Lieutenant Colonel Leon Strickland, 16th Airlift Squadron, Qatar Visit Project Officer, Charleston, SC | Concord Saratoga Ladies Watch ($649); Givenchy Very Irresistible for Men ($64). Rec'd—1/1/2008. Est. Value—$649.00. Location—Transferred to GSA on 15 October 2008 | Major General Hamed Bin Ali Al-Attiyah, Chief of Staff for the Qatar Armed Forces | Non-acceptance would cause embarrassment to donor and U.S. Government.

AGENCY: Department of Commerce
[Report of Travel]
Name and title of person accepting the gift on behalf of the U.S. Government | Gift, date of acceptance on behalf of the U.S. Government, estimated value, and current disposition or location | Identity of foreign donor and government | Circumstances justifying acceptance
James Mayfield, Commercial Officer, International Trade Administration (ITA) | Hotel Lodging. Rec'd—October 22—23, 2008. Est. Value—$438.00 | Sam Lei, Senior Manager of Promotional Activities Dept, Institute de Promocao do Comercio e do Investimento de Macau (IPIM) | Non-acceptance would cause embarrassment to donor and U.S. Government.

AGENCY: Department of Defense, U.S. Marine Corps
[Report of Tangible Gifts]
Name and title of person accepting the gift on behalf of the U.S. Government | Gift, date of acceptance on behalf of the U.S. Government, estimated value, and current disposition or location | Identity of foreign donor and government | Circumstances justifying acceptance
Major General Martin Post, Deputy Commanding General, Multi National Force-West (I Marine Expeditionary Force (Forward) [I MEF (Fwd)]) | Momo Design Pilot Watch—MD-064. Rec'd—1/25/2008. Est. Value—$900.00. Location—Pending Transfer to General Services Administration | Sheikh Tariq Khalaf Abdullah Halbusi. He is Iraqi, but lives in Amman, Jordan | Non-acceptance would cause embarrassment to donor and U.S. Government.
Major General John F. Kelly, Commanding General, Multi National Force-West (I Marine Expeditionary Force (Forward) [I MEF (Fwd)]) | Formex Watch. Rec'd—6/1/2008. Est. Value—$1,995. Location—Pending Transfer to General Services Administration | Sheikh Jassim Muhammad Saleh al-Suwaydawie, Province, Iraq | Non-acceptance would cause embarrassment to donor and U.S. Government.

AGENCY: Department of Education
[Report of Tangible Gifts]
Name and title of person accepting the gift on behalf of the U.S. Government | Gift, date of acceptance on behalf of the U.S. Government, estimated value, and current disposition or location | Identity of foreign donor and government | Circumstances justifying acceptance
The Honorable Margaret Spellings, Secretary of Education | Oil painting of desert outpost by Hussein Sherif, UAE, size 40x50. Rec'd—6/4/2008. Est. Value—$1,361.26. Location—Pending Transfer to GSA | His Excellency Minister Hanif Hassan, Minister of Education of the United Arab Emirates | Non-acceptance would cause embarrassment to donor and U.S. Government.
The Honorable Margaret Spellings, Secretary of Education | Cartier ball point pen. Rec'd—1/2/2008. Est. Value—$345.00. Location—Pending Transfer to GSA | His Excellency Yousef Al Otaiba, Ambassador of the United Arab Emirates | Non-acceptance would cause embarrassment to donor and U.S. Government.

AGENCY: Department of the Navy
[Report of Travel]
Name and title of person accepting the gift on behalf of the U.S. Government | Gift, date of acceptance on behalf of the U.S. Government, estimated value, and current disposition or location | Identity of foreign donor and government | Circumstances justifying acceptance
Rear Admiral Nevin P. Carr, Jr., U.S. Navy, Deputy Assistant Secretary of Navy (International Programs)/Director, Navy International Programs Office | Expended for commercial air transportation from Paris, France to Toulon, France and return. Rec'd—10/27/2008. Est. Value—$486.00 | Rear Admiral Jacques Cousguer, Director of Naval Systems Technical Expertise Directorate Delegation Generale Pour L'Armament (DGA); Paris, France | Non-acceptance would cause embarrassment to donor and U.S. Government.
Lieutenant Junior Grade (LTJG) Stephen W. Hedrick, U.S. Navy, Aide to the Deputy Assistant Secretary of the Navy International Programs/Director, Navy International Programs Office | Expended for commercial air transportation from Paris, France to Toulon, France and return. Rec'd—10/27/2008. Est. Value—$486.00 | Rear Admiral Jacques Cousguer, Director of Naval Systems Technical Expertise Directorate Delegation Generale Pour L'Armament (DGA); Paris, France | Non-acceptance would cause embarrassment to donor and U.S. Government.
Admiral Mark P. Fitzgerald, U.S. Navy, Commander, U.S. Naval Forces, Europe and accompanying staff | Expended for lodging in Venice, Italy. Rec'd—10/14-17/2008. Est. Value—$3,429.47 | Admiral Paolo La Rosa, Chief of Staff, Italian Navy | Non-acceptance would cause embarrassment to donor and U.S. Government.
Admiral Mark P. Fitzgerald, U.S. Navy, Commander, U.S. Naval Forces, Europe and accompanying staff | Expended for lodging and meals in Bahrain. Rec'd—1/22/2008. Est. Value—$916.30 | His Majesty Shaikh Hamad Bin Isa Bin Salman Al-Khalifa, King of the Kingdom of Bahrain | Non-acceptance would cause embarrassment to donor and U.S. Government
Admiral Mark P. Fitzgerald, U.S. Navy, Commander, U.S. Naval Forces, Europe and accompanying staff | Expended for lodging in Greece. Rec'd—4/2-3/2008. Est. Value—$17,939.80 | General Dimitrios Grapas, Chief of Hellinic National Defense General Staff | Non-acceptance would cause embarrassment to donor and U.S. Government.
Admiral Mark P. Fitzgerald, U.S. Navy, Commander, U.S. Naval Forces, Europe and accompanying staff | Expended for lodging in Brijuli Island, Croatia. Rec'd—10/25-27/2008. Est. Value—$3,166.00 | Major General Josip Lucic, Chief of Defense, Croatia | Non-acceptance would cause embarrassment to donor and U.S. Government.
Admiral Mark P. Fitzgerald, U.S. Navy, Commander, U.S. Naval Forces, Europe and accompanying staff | Expended for lodging in Ohrid, Macedonia. Rec'd—10/7-9/2008. Est. Value—$820.00 | His Excellency Zoran Konjanovski, Minister of Defense of the Republic of Macedonia | Non-acceptance would cause embarrassment to donor and U.S. Government.
Admiral Mark P. Fitzgerald, U.S. Navy, Commander, U.S. Naval Forces, Europe and accompanying staff | Expended for lodging in Ljublijana. Slovenia. Rec'd—12/16-17/2008. Est. Value—$1,044.00 | Lieutenant General (LTG) Albin Gutman, Chief of Defense General Staff for Slovenia | Non-acceptance would cause embarrassment to donor and U.S. Government.

AGENCY: Department of the Army
[Report of Tangible Gifts]
Name and title of person accepting the gift on behalf of the U.S. Government | Gift, date of acceptance on behalf of the U.S. Government, estimated value, and current disposition or location | Identity of foreign donor and government | Circumstances justifying acceptance
Major General Benjamin Mixon, Commanding General 25th Infantry Division | Quom Medallion design rug, silk pile on silk foundation, 6′4″ × 9′9″. Rec'd—8/30/2007. Est. Value—$8,500.00. Disposition—Tropic Lightning Museum, 25th Infantry Division, Fort Shafter, HI for Official Use | Prime Minister Barzani, Kurdish Region, Iraq | Non-acceptance would cause embarrassment to donor and U.S. Government.
Lieutenant General Steven R. Whitcomb, Commander, Third Army/U.S. Army Central/Coalition Forces Land Component Command | Etienne Aigner designer silver and horseshoe-shaped MEN's watch ($900); Etienne Aigner designer silver and horseshoe-shaped WOMEN's watch ($900). Rec'd—10/2007. Est. Value—$1,800.00. Disposition—Turned in to GSA | Major General Duail Slaman Al Khalifa, Chief of Staff, Bahrain Defense Forces | Non-acceptance would cause embarrassment to donor and U.S. Government.
Lieutenant General Steven R. Whitcomb, Commander, Third Army/U.S. Army Central/Coalition Forces Land Component Command | (1) Etienne Aigner designer watch A19211 ($305); (2) Givenchy pale pink leather woman's wallet ($200). Rec'd—10/2007. Est. Value—$505.00. Disposition—Turned in to GSA | Unknown Kuwait Government Official | Non-acceptance would cause embarrassment to donor and U.S. Government.
Lieutenant General Steven R. Whitcomb, Commander, Third Army/U.S. Army Central/Coalition Forces Land Component Command | Christian Dior silver band, gold face woman's watch. Rec'd—2006. Est. Value—$500.00. Disposition—Turned in to GSA | Brigadier General Fahed Al-Qyarain, Land Forces Commander, Qatar | Non-acceptance would cause embarrassment to donor and U.S. Government.
Lieutenant General Steven R. Whitcomb, Commander, Third Army/U.S. Army Central/Coalition Forces Land Component Command | Christian Dior silver band, square face man's watch. Rec'd—6/26/2007. Est. Value—$600.00. Disposition—Turned in to GSA | Brigadier General Fahed Al-Qyarain, Land Forces Commander, Qatar | Non-acceptance would cause embarrassment to donor and U.S. Government.
Lieutenant General Steven R. Whitcomb, Commander, Third Army/U.S. Army Central/Coalition Forces Land Component Command | Murex silver with round face man's watch. Rec'd—2007. Est. Value—$350.00. Disposition—Turned in to GSA | Unknown Qatar Government Official | Non-acceptance would cause embarrassment to donor and U.S. Government.
Lieutenant General Steven R. Whitcomb, Commander, Third Army/U.S. Army Central/Coalition Forces Land Component Command | Breitling silver with oversized face man's watch. Rec'd—2007. Est. Value—$3,000.00. Disposition—Turned in to GSA | Unknown Qatar Government Official | Non-acceptance would cause embarrassment to donor and U.S. Government.
Lieutenant General Steven R. Whitcomb, Commander, Third Army/U.S. Army Central/Coalition Forces Land Component Command | De-milled cased AK 47. Rec'd—10/1/2007. Est. Value—$795.00. Location—Headquarters Third Army/U.S. Army Central/Coalition Forces Land Component Command APO AE 09306 for Official Use | Major General Al-Kabe, United Arab Emirates | Non-acceptance would cause embarrassment to donor and U.S. Government.
Major General Mark P. Hertling, Commanding General, Multi-National Division-North | Pamshal Factory Carpet, 200 cm × 300 cm. Rec'd—4/10/2008. Est. Value—$600.00. Location— Location: Freedom Rest-North Facility, 1st Armored Division, Multi-National Division-North, Contingency Operating Base Speicher, Tikrit, Iraq, APO AE 09393 for Official Use | Lieutenant General P.K. Sing, Para Vishisht Seva Medal, Ati Vishist Seva Meda, General Officer Commanding-in-Chief. H2 South Western Command of the Republic of Indonesia | Non-acceptance would cause embarrassment to donor and U.S. Government.
Brigadier General Vincent K. Brooks, Deputy Commanding General (Support), Multi-National Division Baghdad and 1st Cavalry Division | Handmade floral area rug, 7′ × 10′. Rec'd—11/20/2007. Est. Value—$1,000.00. Location— Location: 1st Cavalry Division Command Group's Headquarters, Iraq for Official Use | Sheik Umar al-Jubur, Advisor to Iraqi Vice President Tariq al-Hashimi | Non-acceptance would cause embarrassment to donor and U.S. Government.
Major General Peter M. Vangjel, Commanding General, United States Fires Center of Excellence and Fort Sill | Longines Presence watch, model L4.720.4.12.6. Rec'd—8/7/2008. Est. Value—$750.00. Location— Location: Snow Hall, U.S. Army Field Artillery School, 1210 NW Schimmelpfennig Road, Fort Sill, OK 73503. Kept for Official Use | Major Saeed, Field Artillery, Army, United Arab Emirates | Non-acceptance would cause embarrassment to donor and U.S. Government.
Major General Francis J. Wiercinski, Deputy Commanding General, Multi-National Division-North, Iraq | Persian Iranian rug. Rec'd—9/27/2007. Est. Value—$1,000.00. Location— Disposition: Pending Transfer to General Services Administration | Prime Minister Nechirvan Barzani, Prime Minister, Kurdistan Regional Government | Non-acceptance would cause embarrassment to donor and U.S. Government.
Major General Francis J. Wiercinski, Deputy Commanding General, Multi-National Division-North, Iraq | Gold necklace. Rec'd—9/29/2007. Est. Value—$1,500.00. Location— Disposition: Pending Transfer to General Services Administration | Oil Director of Kurdistan Regional Government | Non-acceptance would cause embarrassment to donor and U.S. Government.
Major General Francis J. Wiercinski, Deputy Commanding General, Multi-National Division-North, Iraq | Gold necklace, earrings, and ring set). Rec'd—10/5/2007. Est. Value—$1,800.00. Location— Disposition: Pending Transfer to General Services Administration | Sarkis Aghajan Manendu, Minister of Finance and Economy for Kurdistan Regional Government | Non-acceptance would cause embarrassment to donor and U.S. Government.
Major General Francis J. Wiercinski, Deputy Commanding General, Multi-National Division-North, Iraq | Red Persian rug. Rec'd—10/1/2007. Est. Value—$2,000.00. Location— Disposition: Pending Transfer to General Services Administration | Minister of Defense for Kurdistan Regional Government | Non-acceptance would cause embarrassment to donor and U.S. Government.
Major General Francis J. Wiercinski, Deputy Commanding General, Multi-National Division-North, Iraq | Cultural dance outfit. Rec'd—10/8/2007. Est. Value—$350.00. Location— Disposition: Pending Transfer to General Services Administration | Minister Sarkazi (additonal data not available) | Non-acceptance would cause embarrassment to donor and U.S. Government.
Major General Michael D. Barbero, Director CJ3, Iraq | Longines Presence man's watch. Rec'd—9/2008. Est. Value—$645.00. Location— Disposition: Pending Transfer to General Services Administration | Prime Minster, Kurdistan Regional Government | Non-acceptance would cause embarrassment to donor and U.S. Government.
Major General Mark P. Hertling, Commanding General, Multi-National Division-North | Handmade silk Persian rug, 3′ × 5′. Rec'd—9/6/2008. Est. Value—$1,200.00. Location— Disposition: Pending Transfer to General Services Administration | Governor Dana, Provisional Governor of Sulaymaniyah, Iraq | Non-acceptance would cause embarrassment to donor and U.S. Government.
Lieutenant General Steven R. Whitcomb, Commander, Third Army/U.S. Army Central/Coalition Forces Land Component Command | Concord Mariner woman's watch with mother of pearl face and diamonds ($1,000); 48 count pearl necklace with silver clasp in red jewelry pouch ($50). Rec'd—8/2006. Est. Value—$1,050.00. Disposition—Turned in to GSA | Brigadier General Fahed Al-Qyarain, Land Forces Commander, Qatar | Non-acceptance would cause embarrassment to donor and U.S. Government.
Lieutenant General Steven R. Whitcomb, Commander, Third Army/U.S. Army Central/Coalition Forces Land Component Command | Breitling Aviator man's watch. Rec'd—10/7/2007. Est. Value—$2,900.00. Location—Headquarters Third Army/U.S. Army Central/Coalition Forces Land Component Command APO AE 09306 for Official Use | J3 Al-Isaa, J3, Kuwait Armed Forces | Non-acceptance would cause embarrassment to donor and U.S. Government.
Brigadier General Francis J. Wiercinski, Deputy Commander, U.S. Army Pacific | Quom Silk Persian Iranian rug, 3′2″ × 4′11″. Rec'd—8/4/2008. Est. Value—$1,500.00. Location—Purchased by Recipient | President Masoud Barzani, Kurdish Region of Government (KRG) | Non-acceptance would cause embarrassment to donor and U.S. Government.
Colonel David G. Paschal, Commander, 1st Brigade Combat Team, 10th Mountain Division (LI), Iraq | Longines gold and silver man's watch. Rec'd—10/3/2007. Est. Value—$1,000.00. Disposition—Turned in to GSA | President Barzani, Kurdish Region of Government (KRG) | Non-acceptance would cause embarrassment to donor and U.S. Government.
Colonel David G. Paschal, Commander, 1st Brigade Combat Team, 10th Mountain Division (LI), Iraq | Omega, his and her silver with crystal facets watches set. Rec'd—10/3/2007. Est. Value—$1,000.00. Disposition—Turned in to GSA | General Saifadeen, Senior Security Officer Sulaymania Province, Iraq | Non-acceptance would cause embarrassment to donor and U.S. Government.
Colonel David G. Paschal, Commander, 1st Brigade Combat Team, 10th Mountain Division (LI), Iraq | Longines gold man's watch. Rec'd—2/12/2008. Est. Value—$875.00. Disposition—Turned in to GSA | General Kawa, Chief, Kirkuk Police Academy, Iraq | Non-acceptance would cause embarrassment to donor and U.S. Government.
Major General Mark P. Hertling, Commanding General, Multi-National Division-North | Longines gold and silver man's watch. Rec'd—10/30/2007. Est. Value—$900.00. Disposition—Turned in to GSA | President Barzani, Kurdish Region of Government (KRG) | Non-acceptance would cause embarrassment to donor and U.S. Government.
Major Ray Fallari, Contracting Officer, Multi-National Division-North, Iraq | 18K gold necklace with heart pendant ($175); 18K gold necklace with Iraq-shaped pendant ($175); Rec'd—9/21/2007. Est. Value—$350.00. Disposition—Turned in to GSA | Unknown Iraq Government Official | Non-acceptance would cause embarrassment to donor and U.S. Government.
Captain Harrison C. Kennedy, Contract and Fiscal Law Attorney, 2nd Stryker Brigade Combat Team, Camp Taji, Iraq | 21K gold chain, 27″ length. Rec'd—2/13/2008. Est. Value—$395.00. Disposition—Turned in to GSA | Sheik Hamdi Muklif Melahma, Local Tribal Leader of Taji, Iraq | Non-acceptance would cause embarrassment to donor and U.S. Government.
Mr. James Johnson, Executive Director, U.S. Army Developmental Test Command (DTC) | Baume and Mercier black face and band watch ($2,395); Givenchy blue label cologne ($86); Givenchy brown/tan geometric wallet ($200). Rec'd—1/8/2008. Est. Value—$2,681.00. Disposition—Turned in to GSA | Major General Hamad Bin Al-Mahshadi, Chief of Staff, Qatar | Non-acceptance would cause embarrassment to donor and U.S. Government.
Mr. James Johnson, Executive Director, U.S. Army Developmental Test Command (DTC) | Red velvet memento box with clasp that opens and plaque. Plaque is inscribed “With the Compliments of the Chief of Staff—Qatar Armed Forces”. Rec'd—1/8/2008. Est. Value—Unknown. Location—U.S. Army Developmental Test Command (DTC), 314 Longs Corner Road, Aberdeen Proving Ground, MD 21005-5055 for Official Use. Value could not be determined—unique gift | Major General Hamad Bin Al-Mahshadi, Chief of Staff, Qatar | Non-acceptance would cause embarrassment to donor and U.S. Government.
Mr. James Johnson, Executive Director, U.S. Army Developmental Test Command (DTC) | Wood pen with case inscribed with “Chief of Staff Qatar Armed Forces” ($45); Qatar Year Book 2004 with tourist map of Qatar and Doha City ($105). Rec'd—1/8/2008. Est. Value—$150.00. Location—U.S. Army Developmental Test Command (DTC), 314 Longs Corner Road, Aberdeen Proving Ground, MD 21005-5055 for Official Use | Major General Hamad Bin Al-Mahshadi, Chief of Staff, Qatar | Non-acceptance would cause embarrassment to donor and U.S. Government.
Lieutenant Colonel Thomas H. Mackey, Squadron Commander, 2nd Squadron, 14th Cavalry, 2nd Stryker Brigade Combat Team | Machine made, red and gold floral rug, 9′ × 11′. Rec'd—5/21/2008. Est. Value—$400.00. Location—Headquarters, 2nd Brigade, 4th Infantry Division, Squadron area, Camp Taji, Iraq APO AE 09378 for Official Use | Talib Zibala Ibraheem Al Jabouri, Local Tribal Leader of Shat Al Taji, Iraq | Non-acceptance would cause embarrassment to donor and U.S. Government.
Lieutenant General Benjamin R. Mixon, Commanding General, Headquarters, U.S. Army, Pacific | Contemporary Indian decorative white alabaster stone sculpture depicting a trumpeting elephant. Rec'd—2/14/2008. Est. Value—$1,250.00. Location—Headquarters, U.S. Army, Pacific, Fort Shafter, HI 96858-5100 for Official Use | Lieutenant General P.K. Sing, Para Vishisht Seva Medal, Ati Vishist Seva Meda, General Officer Commanding-in-Chief. H2 South Western Command of the Republic of Indonesia | Non-acceptance would cause embarrassment to donor and U.S. Government.

AGENCY: Department of the Navy
[Report of Tangible Gifts]
Name and title of person accepting the gift on behalf of the U.S. Government | Gift, date of acceptance on behalf of the U.S. Government, estimated value, and current disposition or location | Identity of foreign donor and government | Circumstances justifying acceptance
The Honorable Donald C. Winter, Secretary of the Navy | Oil Painting of the USS CONNECTICUT. Rec'd—6/12/2008. Est. Value—$1,000.00. Disposition—Secretary's Office, pending purchase | Commodore David Anson, New Zealand Defense Attaché | Non-acceptance would cause embarrassment to donor and U.S. Government.
The Honorable Donald C. Winter, Secretary of the Navy | Gold dagger with sheath in a red velvet box (12″ long and 3.5″ wide). Rec'd—2/5/2008. Est. Value—$400.00. Disposition—Secretary's Office, pending purchase | His Excellency Dr. Nasar Al Balooshi, Ambassador of Bahrain | Non-acceptance would cause embarrassment to donor and U.S. Government.
Vice Admiral Kevin J. Cosgriff, U.S. Navy, Commander, U.S. Naval Forces Central Command; and Commander, Fifth Fleet; and Commander, Combined Maritime Forces | Cerruti 1881 Collection of a black ball point pen, a black leather wallet (in black pouch) and a analog silver watch with black leather band and black face, Serial CT67241S103042 all presented in brown lacquered box with gold eagle on top and gold clasp. Rec'd—7/2/2008. Est. Value—$375.00. Location—General Services Administration | Major General Hmad Al-Rumaithy, Chief of Staff, United Arab Emirates Armed Forces | Non-acceptance would cause embarrassment to donor and U.S. Government.
Lieutenant Richard S. Caldwell, U.S. Navy Reserves, U.S. Central Command, J2 Intelligence Directorate | Stainless Steel Acquanautic Chronographe Cuda Swiss Man's analog Watch, chain link band with silver raised face, seahorse design on back side of face. Presented on cream colored leather cushioned pad with sea horse design. Rec'd—8/16/2008. Est. Value—$1,400.00. Location—Pending transfer to General Services Administration | Colonel Hamad J. Al Neyadi, Army, United Arab Emirates Directorate of Military Intelligence and Security | Non-acceptance would cause embarrassment to donor and U.S. Government.
The Honorable Donald C. Winter, Secretary of the Navy | Silver Dagger with sheath (13″ long and 4″ wide). Rec'd—11/26/2006. Est. Value—$400.00. Disposition—Secretary's Office, pending purchase | General Shaikh Khalifa Bin Ahmed Al Khalifa, Minister of Defense of the Kingdom of Bahrain | Non-acceptance would cause embarrassment to donor and U.S. Government.
Captain Steven Kornatz, U.S. Navy, Director, Naval Command College, Naval War College | Sapphire Crystal Tissot t-Touch Smart Man's analog watch, Silver chain link band with black and silver face, Presented in black and red box. Ser SKN-BC-38-325, Z 253/353P. Rec'd—10/25/2007. Est. Value—$550.00. Location—General Services Administration | Colonel Yahya Buamin, United Arab Emirates Military | Non-acceptance would cause embarrassment to donor and U.S. Government.
Admiral Michael G. Mullen, U.S. Navy, Chief of Naval Operations | Red Tai-Hwa Potter Luster Color Ceramic Series vase approximately 10′ tall with gold leaf neck and painted gold butterflies on body. Presented in box with wood stand. Rec'd—9/19/2007. Est. Value—$335.00. Location—Pending transfer to General Services Administration | Admiral Wang Li-Seng, Commander in Chief of the Chinese Navy | Non-acceptance would cause embarrassment to donor and U.S. Government.
Admiral Vernon E. Clark, U.S. Navy, Chief of Naval Operations | 6 in. × 6 in. set of Carved and faux gem inlay Ivory Elephant book ends; each presented in a box covered with blue velvet cloth. Rec'd—10/11/2003. Est. Value—$1,000.00. Location—Pending transfer to General Services Administration | Admiral and Mrs. Kaumundi Kumani, Indian Chief of Navy Staff | Non-acceptance would cause embarrassment to donor and U.S. Government.

AGENCY: Department of Treasury
[Report of Tangible Gifts]
Name and title of person accepting the gift on behalf of the U.S. Government | Gift, date of acceptance on behalf of the U.S. Government, estimated value, and current disposition or location | Identity of foreign donor and government | Circumstances justifying acceptance
The Honorable Henry M. Paulson, Jr., Secretary of Treasury | Replica of the 2008 Beijing Olympics Torch. Rec'd—4/2/2008. Est. Value—$500.00. Location—Treasury retained on June 22, 2008 | His Excellency Wang Qishan, Vice Premier of the People's Republic of China | Non-acceptance would cause embarrassment to donor and U.S. Government.
The Honorable Henry M. Paulson, Jr., Secretary of Treasury | Framed oil painting of a Saudi Arabian town. Rec'd—5/31/2008. Est. Value—$2,000.00. Location—Treasury retained on November 5, 2008 | His Excellency Ibrahim A. Al-Assaf, Minister of Finance of the Kingdom of Saudi Arabia | Non-acceptance would cause embarrassment to donor and U.S. Government.
The Honorable Robert M. Kimmitt, Deputy Secretary | Framed watercolor painting. Rec'd—5/31/2008. Est. Value—$2,000.00. Location—Treasury retained on November 5, 2008 | His Highness Mohammad bin Rashid al Maktoum, Vice President and Prime Minister of the United Arab Emirates and Ruler of Dubai | Non-acceptance would cause embarrassment to donor and U.S. Government.
Laura Trimble, Associate Director of Budget Policy and Management, Office of Technical Assistance | Zlatarna Celje pearl necklace+C24. Rec'd—4/24/2008. Est. Value—$709.00. Location—Treasury retained on August 12, 2008 | His Excellency Ivan Maricic, Treasurer of Finance of the Government of Serbia | Non-acceptance would cause embarrassment to donor and U.S. Government.
Gail Ostler, Advisor, Office of Technical Assistance | Zlatarna Celje pearl necklace. Rec'd—4/24/2008. Est. Value—$813.00. Location—Treasury retained on August 12, 2008 | His Excellency Ivan Maricic, Treasurer of Finance of the Government of Serbia | Non-acceptance would cause embarrassment to donor and U.S. Government.
Nancy Lee, Deputy Assistant Secretary, Office of International Affairs | Set of sterling silverware for 6 and 12″ silver platter. Rec'd—1/28/2003. Est. Value—$928.50. Location—Treasury retained on May 6, 2008 | His Excellency Rustam Asimov, Deputy Prime Minister of the Government of Uzbekistan | Non-acceptance would cause embarrassment to donor and U.S. Government.

AGENCY: Federal Housing Finance Board
[Report of Travel]
Name and title of person accepting the gift on behalf of the U.S. Government | Gift, date of acceptance on behalf of the U.S. Government, estimated value, and current disposition or location | Identity of foreign donor and government | Circumstances justifying acceptance
The Honorable Allan L. Mendelowitz, Member, Board of Directors | Attended the annual meeting of the Asian Development Bank's board of directors in Madrid, Spain. Participated in a panel on the state of the world economy and financial markets. Bank paid for airfare outside the U.S., hotel, meals, and incidentals. Rec'd—5/1-5/2008. Est. Value—$5,500 | Asian Development Bank | Non-acceptance would cause embarrassment to donor and U.S. Government.

AGENCY: Federal Reserve Board
[Report of Tangible Gifts]
Name and title of person accepting the gift on behalf of the U.S. Government | Gift, date of acceptance on behalf of the U.S. Government, estimated value, and current disposition or location | Identity of foreign donor and government | Circumstances justifying acceptance
Ben S. Bernanke, Chairman | Four silver Beijing 2008 Olympic Series III Coins (one troy ounce each). Rec'd—4/23/2008. Est. Value—$499.00. Location—Chairman's Office for Official Use | Hu Pingxi, Vice President, The People's Bank of China (Shanghai head office), People's Republic of China | Non-acceptance would cause embarrassment to donor and U.S. Government.
Frederic S. Mishkin, Board member | 24 × 12 inch acrylic landscape painting by Barbara Kassab. Rec'd—6/11/2008. Est. Value—$400.00. Location—Board's Property Management Section for Official Use | Sir K. Dwight Venner, Governor of the Eastern Caribbean Central Bank, St. Kitts, West Indies | Non-acceptance would cause embarrassment to donor and U.S. Government.

AGENCY: Research and Innovative Technology Administration/Volpe National Transportation Systems Center
[Report of Travel]
Name and title of person accepting the gift on behalf of the U.S. Government | Gift, date of acceptance on behalf of the U.S. Government, estimated value, and current disposition or location | Identity of foreign donor and government | Circumstances justifying acceptance
Mr. Michael A. Rossetti, Statistician (Economics) | In-kind lodging expenses associated with participation in the International Conference on Safety and Mobility, Klagenfurt, Austria. Rec'd—7/9-11/2008. Est. Value—$582.00 | Austrian Federal Economic Chamber of Commerce | Non-acceptance would cause embarrassment to donor and U.S. Government.
Mr. Thomas A. Seliga, Electronics Engineer | In-kind lodging expenses associated with participation in the International Conference on Safety and Mobility, Klagenfurt, Austria. Rec'd—7/9-11/2008. Est. Value—$582.00 | Austrian Federal Economic Chamber of Commerce | Non-acceptance would cause embarrassment to donor and U.S. Government.

AGENCY: U.S. House of Representatives
[Report of Tangible Gifts]
Name and title of person accepting the gift on behalf of the U.S. Government | Gift, date of acceptance on behalf of the U.S. Government, estimated value, and current disposition or location | Identity of foreign donor and government | Circumstances justifying acceptance
The Honorable Nancy Pelosi, Speaker of the House | Handmade wool rug, approximately 5′ by 8′, cream ground with red center medallion. Rec'd—8/5/2008. Est. Value—$585.00. Location—Office of the Clerk | His Excellency Syed Yousaf Raza Gillani, Prime Minister of the Islamic Republic of Pakistan | Non-acceptance would cause embarrassment to donor and U.S. Government.

AGENCY: U.S. House of Representatives
[Report of Travel]
Name and title of person accepting the gift on behalf of the U.S. Government | Gift, date of acceptance on behalf of the U.S. Government, estimated value, and current disposition or location | Identity of foreign donor and government | Circumstances justifying acceptance
The Honorable Marion Berry, Member of Congress | Round trip air trip—Cuiaba to/from Sapezal, Brazil (No commercial air available); one night lodging in Sapezal (No commercial lodging available) comparable lodging in Cuiaba. Rec'd—9/2-3/2008. Est. Value—$697.00 | His Excellency Blairo Borges Maggi, Governor of Mato Grosso, Brazil | Non-acceptance would cause embarrassment to donor and U.S. Government.
Scott Boule, Senior Appropriations Advisor | Lodging in Brussels for five nights. Rec'd—5/26-31/2008. Est. Value—$1,200.60 | Mr. William Burros, Senior Advisor, Political & Development Section, Delegation of the European Commission | Non-acceptance would cause embarrassment to donor and U.S. Government.
Wynn J. Bott, Financial Administrator for House Committee on Agriculture | Round trip air trip—Cuiaba to/from Sapezal, Brazil (No commercial air available); one night lodging in Sapezal (No commercial lodging available) comparable lodging in Cuiaba. Rec'd—9/2-3/2008. Est. Value—$697.00 | His Excellency Blairo Borges Maggi, Governor of Mato Grosso, Brazil | Non-acceptance would cause embarrassment to donor and U.S. Government.
Aaron Davis, Senior Legislative Assistant to Representative Christopher Carney | Lodging in Brussels for five nights. Rec'd—5/26-31/2008. Est. Value—$1,166.15 | Mr. William Burros, Senior Advisor, Political & Development Section, Delegation of the European Commission | Non-acceptance would cause embarrassment to donor and U.S. Government.
Eric Fatla, Executive Assistant to Representative Jerry Weller | Round trip air trip—Cuiaba to/from Sapezal, Brazil (No commercial air available); one night lodging in Sapezal (No commercial lodging available) comparable lodging in Cuiaba. Rec'd—9/2-3/2008. Est. Value—$697.00 | His Excellency Blairo Borges Maggi, Governor of Mato Grosso, Brazil | Non-acceptance would cause embarrassment to donor and U.S. Government.
James P. Frank, District Director to Representative Bill Shuster | Lodging in Brussels for five nights. Rec'd—5/26-31/2008. Est. Value—$1,200.60 | Mr. William Burros, Senior Advisor, Political & Development Section, Delegation of the European Commission | Non-acceptance would cause embarrassment to donor and U.S. Government.
Emalee B. Griffin, Executive Assistant to Representative Ben Chandler | Round trip air trip—Cuiaba to/from Sapezal, Brazil (No commercial air available); one night lodging in Sapezal (No commercial lodging available) comparable lodging in Cuiaba. Rec'd—9/2-3/2008. Est. Value—$697.00 | His Excellency Blairo Borges Maggi, Governor of Mato Grosso, Brazil | Non-acceptance would cause embarrassment to donor and U.S. Government.
Randall Jennings, Legislative Assistant to Representative Gene Taylor | Five nights lodging in Brussels. Rec'd—5/26-31/2008. Est. Value—$1,200.60 | Mr. William Burros, Senior Advisor, Political & Development Section, Delegation of the European Commission | Non-acceptance would cause embarrassment to donor and U.S. Government.

AGENCY: United States Senate
[Report of Tangible Gifts]
Name and title of person accepting the gift on behalf of the U.S. Government | Gift, date of acceptance on behalf of the U.S. Government, estimated value, and current disposition or location | Identity of foreign donor and government | Circumstances justifying acceptance
The Honorable Harry Reid, United States Senator | Assorted Jordanian coins in wooden display case with clear plastic top. Rec'd—3/7/2008. Est. Value—$350.00. Location—Displayed in Leadership Office, S-221 Capitol | His Majesty Abdullah II bin al Hussein, King of the Hashemite Kingdom of Jordan | Non-acceptance would cause embarrassment to donor and U.S. Government.
The Honorable Lindsey Graham, United States Senator | Nivada Watch. Rec'd—3/16/2008. Est. Value—$595.00. Location—Deposited with Secretary of Senate | Speaker Dr. Mahmood D. Almashhadani of the Republic of Iraq | Non-acceptance would cause embarrassment to donor and U.S. Government.
The Honorable John McCain, United States Senate | Men's Nivada Brushed Goldtone Watch. Rec'd—3/16/2008. Est. Value—$595.00. Location—Deposited with Secretary of Senate | Speaker Dr. Mahmood D. Almashhadani of the Republic of Iraq | Non-acceptance would cause embarrassment to donor and U.S. Government.
The Honorable Joseph Lieberman, United States Senator | Nivada brushed goldtone stainless steel woven watch with polished accent. Rec'd—5/14/2008. Est. Value—$595.00. Location—Deposited with Secretary of Senate | Speaker Dr. Mahmood D. Almashhadani of the Republic of Iraq | Non-acceptance would cause embarrassment to donor and U.S. Government.
The Honorable Jack Reed, United States Senator | Red and Black Woven Small Area Rug. Rec'd—7/19/2008. Est. Value—$400.00. Location—Displayed in Senate Office, 728 Hart | His Excellency Governor Gul Aqa Shirzai of the Transitional Islamic State of Afghanistan | Non-acceptance would cause embarrassment to donor and U.S. Government.
The Honorable Jack Reed, United States Senator | Multicolored Large Area Rug, Handcrafted. Rec'd—7/20/2008. Est. Value—$1,500.00. Location—Displayed in Senate Office, 728 Hart | His Excellency Hamid Karzai, President of the Transitional Islamic State of Afghanistan | Non-acceptance would cause embarrassment to donor and U.S. Government.
The Honorable Barack Obama, United States Senator | (1) Red and Black Woven Rug with White Tassels ($200); (2) Tan Woven Rug with Tribal Designs and White Tassels ($200); (3) Royal and Blue Lapis Lazuli Vase with White and Red Flower Design ($200); (4) Silver Palm Tree with Intricate Design on Base, Trunk and Leaves ($200); (5) Statue of Jesus Holding Staff with Gold Medallion ($60). Rec'd—7/1/2008. Est. Value—$860.00. Location—Deposited with Secretary of Senate | His Excellency Hamid Karzai, President of the Transitional Islamic State of Afghanistan | Non-acceptance would cause embarrassment to donor and U.S. Government.
The Honorable John McCain, United States Senator | Rug Rec'd—10/10/2008. Est. Value—$500.00. Location—Displayed in Senate Office, 238 Russell | His Excellency(?) Mohammedmian Soomro, Chairman of Senate of the Islamic Republic of Pakistan | Non-acceptance would cause embarrassment to donor and U.S. Government.
The Honorable Harry Reid, United States Senator | Book and Signed Painting by Mamah Mamahiz. Rec'd—11/20/2008. Est. Value—$2,000.00. Location—Displayed in Leadership Office, S-221 Capitol | His Excellency Juan Evo Morales, President of the Republic of Bolivia | Non-acceptance would cause embarrassment to donor and U.S. Government.
The Honorable Harry Reid, United States Senator | Book and Signed Painting by Mamah Mamahiz. Rec'd—11/20/2008. Est. Value—$2,000.00. Location—Displayed in Leadership Office, S-221 Capitol | His Excellency Juan Evo Morales, President of the Republic of Bolivia | Non-acceptance would cause embarrassment to donor and U.S. Government.

AGENCY: United States Senate
[Report of Travel]
Name and title of person accepting the gift on behalf of the U.S. Government | Gift, date of acceptance on behalf of the U.S. Government, estimated value, and current disposition or location | Identity of foreign donor and government | Circumstances justifying acceptance
The Honorable Johnny Isakson, United States Senator | Transportation within Equatorial Guinea via government aircraft and government vehicles. Rec'd—1/7/2008. Est. Value—Unknown | Government of Equatorial Guinea | Non-acceptance would cause embarrassment to donor and U.S. Government.
Catherine Henson, Legislative Assistant to Senator Johnny Isakson | Transportation within Equatorial Guinea via government aircraft and government vehicles. Rec'd—1/7/2008. Est. Value—Unknown | Government of Equatorial Guinea | Non-acceptance would cause embarrassment to donor and U.S. Government.
The Honorable Evan Bayh, United States Senator | Lodging and meals in Doha, Qatar. Rec'd—2/17-18/2008. Est. Value—Unknown | Ministry of Foreign Affairs, Qatar | Non-acceptance would cause embarrassment to donor and U.S. Government.
The Honorable Evan Bayh, United States Senator | Lodging and meals in Riyadh, Saudi Arabia. Rec'd—2/19-20/2008. Est. Value—Unknown | Royal Palace, Saudi Arabia | Non-acceptance would cause embarrassment to donor and U.S. Government.
The Honorable Evan Bayh, United States Senator | Meals in Abu Dhabi, United Arab Emirates. Rec'd—2/20-21/2008. Est. Value—Unknown | Office of the Crown Prince, Abu Dhabi | Non-acceptance would cause embarrassment to donor and U.S. Government.
Todd Rosenblum, Professional Staff Member and Liaison to Senator Bayh, Intelligence Committee | Lodging and meals in Doha, Qatar. Rec'd—2/17-18/2008. Est. Value—Unknown | Ministry of Foreign Affairs, Qatar | Non-acceptance would cause embarrassment to donor and U.S. Government.
Todd Rosenblum, Professional Staff Member and Liaison to Senator Bayh, Intelligence Committee | Lodging and meals in Riyadh, Saudi Arabia. Rec'd—2/19-20/2008. Est. Value—Unknown | Royal Palace, Saudi Arabia | Non-acceptance would cause embarrassment to donor and U.S. Government.
Todd Rosenblum, Professional Staff Member and Liaison to Senator Bayh, Intelligence Committee | Meals in Abu Dhabi, United Arab Emirates. Rec'd—2/20-21/2008. Est. Value—Unknown | Office of the Crown Prince, Abu Dhabi | Non-acceptance would cause embarrassment to donor and U.S. Government.
Puneet Talwar, Senior Professional Staff Member, Foreign Relations Committee | Transportation within Saudi Arabia via government aircraft, including lodging and meals. Rec'd—2/16-20/2008. Est. Value—Unknown | Government of Saudi Arabia | Non-acceptance would cause embarrassment to donor and U.S. Government.
Michael Zehr, Legislative Director to Senator Mel Martinez | Lodging in Brussels, Belgium. Rec'd—5/25-31/2008. Est. Value—Unknown | European Commission | Non-acceptance would cause embarrassment to donor and U.S. Government.
Stacie Oliver, Legislative Assistant to Senator Bob Corker | Lodging in Brussels, Belgium. Rec'd—5/26-31/2008. Est. Value—Unknown | European Union | Non-acceptance would cause embarrassment to donor and U.S. Government.
Garrett Eucalitto, Legislative Aide to Senator Joseph Lieberman | Lodging within Brussels, Belgium. Rec'd—5/25-30/2008. Est. Value—Unknown | The European Commission | Non-acceptance would cause embarrassment to donor and U.S. Government.
Paul Kong, Legislative Director to Senator Chuck Hagel | Accommodations in Brussels, Belgium. Rec'd—5/26-31/2008. Est. Value—Unknown | European Commission | Non-acceptance would cause embarrassment to donor and U.S. Government.
Paul Kong, Legislative Director to Senator Chuck Hagel | Accommodations in Brussels, Belgium. Rec'd—5/26-31/2008. Est. Value—Unknown | European Commission | Non-acceptance would cause embarrassment to donor and U.S. Government.

AGENCY: U.S. Agency for International Development
[Report of Travel]
Name and title of person accepting the gift on behalf of the U.S. Government | Gift, date of acceptance on behalf of the U.S. Government, estimated value, and current disposition or location | Identity of foreign donor and government | Circumstances justifying acceptance
Erna Kerst, Director, USAID/Kenya | Passage on a chartered UN flight to Nairobi, Kenya to Samburu, Kenya to accompany an official delegation including other high-level donor country representatives. Rec'd—6/4/2008. Est. Value—$1,937.50 | United Nations World Food Program (WFP), Kenya | Non-acceptance would cause embarrassment to donor and U.S. Government
Tesfaye Kelemework, Deputy Chief, USAID/Addis/BES, Ethiopia mission | Expenses for air ticket (Addis Ababa to Paris to Addis Abada, via lodging and MIE for participating experts' meeting (July 1 and 2) on “Capacity Develpoment in Educational Panning and Management for Achieving EFA: Learning for Successes and Failures” and in a Symposium (July 3 and 4) on “Direction in Educational Planning“. Rec'd—7/1-4/2008. Est. Value—$4,336.17 | International Institute for Educational Planning (IIEP) of UNESCO, Paris, France | Non-acceptance would cause embarrassment to donor and U.S. Government.

[FR Doc. E9-15022 Filed 6-24-09; 8:45 am]

BILLING CODE 4710-20-P